ENVIRONMENTAL PROTECTION AGENCY

40 CFR Parts 60 and 61

[AZ, CA, HI, NV, GU-067-NSPS; FRL-7127-3]

Delegation of New Source Performance Standards and National Emission Standards for Hazardous Air Pollutants for Guam and the States of Arizona, California, Hawaii, and Nevada

AGENCY: Environmental Protection Agency (EPA).

ACTION: Proposed rule.

SUMMARY: EPA has routinely approved most requests from state and local agencies in Region IX for delegation of New Source Performance Standards (NSPS), and National Emission Standards for Hazardous Air Pollutants (NESHAPs). This document is addressing general authorities mentioned in the regulations for NSPS and NESHAPs, proposing to update the delegations tables and clarifying those authorities that are retained by EPA. We are taking comments on this proposal and intend to follow with a final action.

DATES: Any comments must be received by February 13, 2002.

ADDRESSES: Mail comments to Andy Steckel, Chief, Rulemaking Office (AIR-4), U.S. Environmental Protection Agency, Region IX, 75 Hawthorne Street, San Francisco, CA 94105-3901. Copies of supporting information are available for inspection during normal business hours at the following location: U.S. Environmental Protection Agency, Region IX, 75 Hawthorne Street (AIR-4), San Francisco, California, 94105.

Please contact Cynthia G. Allen at (415) 947-4120 to arrange a time if inspection of the supporting information is desired.

FOR FURTHER INFORMATION CONTACT: Cynthia G. Allen at (415) 947-4120 or Mae Wang at (415) 947-4124, U.S. Environmental Protection Agency, Region IX, Rulemaking Office (AIR-4), 75 Hawthorne Street, San Francisco, California, 94105.

SUPPLEMENTARY INFORMATION: The supplementary information is organized in the following order:

What is the purpose of this document?

Who is authorized to delegate these authorities?

What does delegation accomplish?

What authorities are not delegated by EPA?

Does EPA keep some authority?

Administrative Requirements

What Is the Purpose of This Document?

Through this document, EPA is proposing to accomplish the following objectives:

(1) Update the delegations tables in the Code of Federal Regulations, Title 40 (40 CFR), parts 60 and 61, to provide an accurate listing of the delegated standards; and

(2) Clarify those authorities that are retained by EPA and not granted to state or local agencies as part of delegation. These actions are described below.

Update of Tables in the CFR

Today's action proposes to update the delegation tables in 40 CFR parts 60 and 61, to allow easier access by the public to the status of delegations in various state or local jurisdictions. The updated delegation tables would include the delegations approved in response to recent requests, as well as those previously granted. The proposed tables are shown at the end of this document. EPA is also proposing to update the addresses for state and local agencies within the jurisdiction of EPA Region IX.

Recent requests for delegation that will be incorporated into the updated CFR tables are identified below. Each individual submittal identifies the specific NSPS and NESHAPs for which delegation was requested. Some of these requests have already been approved and simply need to be included in the CFR. For requests listed below that have not yet been approved, EPA will consider these delegation requests as approved on the effective date of the final rulemaking that will follow today's action.

Agency | Date of request
Arizona Department of Environmental Quality | May 29, 1998, and October 6, 1999.
Kern County Air Pollution Control District | February 8, 1995, January 20, 2000, and May 18, 2001.
Lake County Air Quality Management District | February 24, 1997.
Mendocino County Air Quality Management District | May 21, 1999.
Sacramento Metropolitan Air Quality Management District | August 7, 1995, April 24, 1997, and July 7, 1998.
San Diego Air Pollution Control District | June 23 and December 24, 1999.
San Joaquin Valley Unified Air Pollution Control District | May 27, 1999, and June 26, 2000.
Santa Barbara County Air Pollution Control District | August 6, 1996.
Ventura County Air Pollution Control District | February 9, 1995.
Yolo-Solano Air Quality Management District | October 20, 1998.

In the future, EPA Region IX may establish a new procedural option for state and local agencies to receive delegation of 40 CFR part 60 and 61 standards. If an agency has delegation of a standard, then the new procedure may allow that agency to receive delegation of any amendments to that standard as they are adopted by reference. The details of any new procedure will be described in a future rulemaking action before it is implemented. It is being mentioned here for informational purposes only.

Clarification of Non-Delegable Authorities

In February 1999, EPA released a guidance document entitled, “How to Review and Issue Clean Air Act Applicability Determinations and Alternative Monitoring—NSPS & NESHAPS, (EPA 305-B-99-004).” In accordance with this guidance, today's action clarifies the NSPS and NESHAP authorities that are not delegated to state and local agencies under Clean Air Act sections 111 and 112. These clarifications will be codified at 40 CFR 60.4(d) and 61.04(c)(9). Today's action also requests that state and local agencies exclude the non-delegable subsections from future delegation requests, and informs the public of our intention to appropriately revise future delegation letter approvals and Federal Register announcements.

Who Is Authorized To Delegate These Authorities?

Sections 111(c)(1) and 112(l) of the Clean Air Act, as amended in 1990, authorize the Administrator to delegate his or her authority for implementing and enforcing standards in 40 CFR Parts 60 and 61.

What Does Delegation Accomplish?

Delegation grants a state or local agency the primary authority to implement and enforce federal standards. All required notifications and reports should be sent to the delegated state or local agency, as appropriate, with a copy to EPA Region IX. Acceptance of delegation constitutes agreement by the state or local agency to follow 40 CFR parts 60 and 61, and EPA's test methods and continuous monitoring procedures.

What Authorities Are Not Delegated by EPA?

In general, EPA does not delegate to state or local agencies the authority to make decisions that are likely to be nationally significant, or alter the stringency of the underlying standards. The following describes in more detail the authorities in 40 CFR Parts 60 and 61 that are retained by EPA.

1. Provisions that address EPA's authority to delegate to states are not being delegated because it is inappropriate to imply that states have authority to delegate to themselves. These provisions include 40 CFR 60.4(b), 61.04(b), and 61.04(c); part 60, subpart B; and part 60, subpart C.

2. Provisions that require federal oversight to ensure national consistency and EPA's ability to enforce the standards are not being delegated. These provisions include 40 CFR 61.05(c) and 61.11.

3. Provisions that grant EPA discretion to approve modifications to test methods or protocols are not being delegated in order to ensure uniformity and technical quality in enforcement of national standards. These provisions include 40 CFR 60.8(b); 60.11(b); 60.13(a),(d)(2), and (g); 60.13(i); 61.13(h)(1)(ii); and 61.14(d) and (g)(1)(ii).

4. Provisions that require rulemaking cannot be delegated because states cannot perform federal rulemaking. These provisions include 40 CFR 60.11(e) and 61.12(d).

5. Provisions that address EPA's obligation to make certain information available to the public does not apply to states under federal law and is not appropriate for delegation. These provisions include 40 CFR 60.9 and 61.16.

6. Appendices to 40 CFR parts 60 and 61 are not performance standards and are not delegable under Clean Air Act Section 111(c)(1) or 112(l)(1). However, all applicable test methods and other requirements in the Appendices must be followed for the delegated subparts.

As additional assurance of national consistency, state and local agencies must send to EPA Region IX Air Division's Enforcement Office Chief a copy of any written decisions made pursuant to the following delegated authorities:

• Applicability determinations that state a source is not subject to a rule or requirement;

• Approvals or determination of construction, reconstruction or modification;

• Minor or intermediate site-specific changes to test methods or monitoring requirements; or

• Site-specific changes or waivers of performance testing requirements.

For decisions that require EPA review and approval (for example, major changes to monitoring requirements), EPA intends to make determinations in a timely manner.

In some cases, the standards themselves specify that specific provisions cannot be delegated. State and local agencies should review each individual standard for this information.

Does EPA Keep Some Authority?

EPA retains independent authority to enforce the standards and regulations of 40 CFR parts 60 and 61.

Administrative Requirements

Under Executive Order 12866 (58 FR 51735, October 4, 1993), this proposed action is not a “significant regulatory action” and therefore is not subject to review by the Office of Management and Budget. This proposed action merely proposes to approve state law as meeting Federal requirements and imposes no additional requirements beyond those imposed by state law. Accordingly, the Administrator certifies that this proposed rule will not have a significant economic impact on a substantial number of small entities under the Regulatory Flexibility Act (U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it would merely approve a state rule implementing a Federal standard, and does not alter the relationship or the distribution of power and responsibilities established in the Clean Air Act. This proposed rule also is not subject to Executive Order 13045 (62 FR 19885, April 23, 1997), because it is not economically significant.

In reviewing delegation requests, EPA's role is to approve state choices, provided that they meet the criteria of the Clean Air Act. In this context, in the absence of a prior existing requirement for the State to use voluntary consensus standards (VCS), EPA has no authority to disapprove a delegation request for failure to use VCS. It would thus be inconsistent with applicable law for EPA, when it reviews a request for delegation, to use VCS in place of a submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of this action in accordance with the “Attorney General's Supplemental Guidelines for the Evaluation of Risk and Avoidance of Unanticipated Takings'' issued under the executive order. This proposed rule does not impose an information collection burden under the provisions of the Paperwork Reduction Act of 1995 (44 U.S.C. 3501 et seq.).

List of Subjects in 40 CFR Parts 60 and 61

Environmental protection, Administrative practice and procedure, Air pollution control, Hazardous substances, Intergovernmental relations, Reporting and recordkeeping requirements.

Authority: This action is issued under the authority of sections 101, 110, 112, and 301 of the CAA, as amended (42 U.S.C. 7401, 7410, 7412, and 7601).

Dated: December 18, 2001.
Jack P. Broadbent,
Director, Air Division, Region IX.

For the reasons set out in the preamble, title 40, chapter I, of the Code of Federal Regulations is proposed to be amended as follows:

PART 60—[AMENDED]

1. The authority citation for part 60 continues to read as follows:

Authority: 42 U.S.C. 7401 et seq.

Subpart A—General Provisions

2. Section 60.4 is amended:

a. In paragraph (a) by revising the address for “Region IX”.

b. By revising paragraph (b)(D).

c. By revising paragraph (b)(F).

d. By revising paragraph (b)(M).

e. By revising paragraph (b)(DD).

f. By revising paragraph (b)(AAA).

g. By adding paragraph (b)(DDD).

h. By adding paragraph (b)(EEE).

i. By adding paragraph (d).

The revisions and additions read as follows:

§ 60.4 Address.

(a) * * *

Region IX (American Samoa, Arizona, California, Guam, Hawaii, Nevada, Northern Mariana Islands), Director, Air Division, U.S. Environmental Protection Agency, 75 Hawthorne Street, San Francisco, CA 94105.

* * * * *

(b) * * *

(D) Arizona:

Arizona Department of Environmental Quality, Office of Air Quality, P.O. Box 600, Phoenix, AZ 85001-0600

Maricopa County Air Pollution Control, 2406 S. 24th Street, Suite E-214, Phoenix, AZ 85034

Pima County Department of Environmental Quality, 130 West Congress Street, 3rd Floor, Tucson, AZ 85701-1317

Pinal County Air Quality Control District, Building F, 31 North Pinal Street, Florence, AZ 85232

Note: For tables listing the delegation status of agencies in Region IX, see paragraph (d) of this section.

* * * * *

(F) California:

Amador County Air Pollution Control District, 500 Argonaut Lane, Jackson, CA 95642

Antelope Valley Air Pollution Control District, 43301 Division Street, Suite 206, P.O. Box 4409, Lancaster, CA 93539-4409

Bay Area Air Quality Management District, 939 Ellis Street, San Francisco, CA 94109

Butte County Air Pollution Control District, 2525 Dominic Drive, Suite J, Chico, CA 95928-7184

Calaveras County Air Pollution Control District, 891 Mountain Ranch Rd., San Andreas, CA 95249

Colusa County Air Pollution Control District, 100 Sunrise Blvd., Suite F, Colusa, CA 95932-3246

El Dorado County Air Pollution Control District, 2850 Fairlane Court, Bldg. C, Placerville, CA 95667-4100

Feather River Air Quality Management District, 938 14th Street, Marysville, CA 95901-4149

Glenn County Air Pollution Control District, 720 N. Colusa Street, P.O. Box 351, Willows, CA 95988-0351

Great Basin Unified Air Pollution Control District, 157 Short Street, Suite 6, Bishop, CA 93514-3537

Imperial County Air Pollution Control District, 150 South Ninth Street, El Centro, CA 92243-2801

Kern County Air Pollution Control District (Southeast Desert), 2700 M Street, Suite 302, Bakersfield, CA 93301-2370

Lake County Air Quality Management District, 885 Lakeport Blvd., Lakeport, CA 95453-5405

Lassen County Air Pollution Control District, 175 Russell Avenue, Susanville, CA 96130-4215

Mariposa County Air Pollution Control District, P.O. Box 5, Mariposa, CA 95338

Mendocino County Air Pollution Control District, 306 E. Gobbi Street, Ukiah, CA 95482-5511

Modoc County Air Pollution Control District, 202 W. 4th Street, Alturas, CA 96101-3915

Mojave Desert Air Quality Management District, 14306 Part Avenue, Victorville, CA 92392-2310

Monterey Bay Unified Air Pollution Control District, 24580 Silver Cloud Ct., Monterey, CA 93940-6536

North Coast Unified Air Pollution Control District, 2300 Myrtle Avenue, Eureka, CA 95501-3327

Northern Sierra Air Quality Management District, 200 Litton Drive, P.O. Box 2509, Grass Valley, CA 95945-2509

Northern Sonoma County Air Pollution Control District, 150 Matheson Street, Healdsburg, CA 95448-4908

Placer County Air Pollution Control District, DeWitt Center, 11464 “B” Avenue, Auburn, CA 95603-2603

Sacramento Metropolitan Air Quality Management District, 777 12th Street, Third Floor, Sacramento, CA 95814-1908

San Diego County Air Pollution Control District, 9150 Chesapeake Drive, San Diego, CA 92123-1096

San Joaquin Valley Unified Air Pollution Control District, 1999 Tuolumne Street, 1990 E. Gettysburg, Fresno, CA 93726

San Luis Obispo County Air Pollution Control District, 3433 Roberto Court, San Luis Obispo, CA 93401-7126

Santa Barbara County Air Pollution Control District, 26 Castilian Drive, B-23, Goleta, CA 93117-3027

Shasta County Air Quality Management District, 1855 Placer Street, Suite 101, Redding, CA 96001-1759

Siskiyou County Air Pollution Control District, 525 So. Foothill Drive, Yreka, CA 96097-3036

South Coast Air Quality Management District, 21865 E. Copley Drive, Diamond Bar, CA 91765-4182

Tehama County Air Pollution Control District, P.O. Box 38 (1750 Walnut Street), Red Bluff, CA 96080-0038

Tuolumne County Air Pollution Control District, 2 South Green Street, Sonora, CA 95370-4618

Ventura County Air Pollution Control District, 669 County Square Drive, Ventura, CA 93003-5417

Yolo-Solano Air Quality Management District, 1947 Galileo Ct., Suite 103, Davis, CA 95616-4882

Note: For tables listing the delegation status of agencies in Region IX, see paragraph (d) of this section.

* * * * *

(M) Hawaii:

Hawaii State Agency, Clean Air Branch, 919 Ala Moana Blvd., 3rd Floor, Post Office Box 3378, Honolulu HI 96814

Note: For tables listing the delegation status of agencies in Region IX, see paragraph (d) of this section.

* * * * *

(DD) Nevada:

Nevada State Agency, Air Pollution Control, Bureau of Air Quality/Division of Environmental Protection, 333 West Nye Lane, Carson City, NV 89710

Clark County Department of Air Quality Management, 500 S. Grand Central Parkway, First floor, Las Vegas, NV 89155-1776

Washoe County Air Pollution Control, Washoe County District Air Quality Management, P.O. Box 11130, 1001 E. Ninth Street, Reno, NV 89520

Note: For tables listing the delegation status of agencies in Region IX, see paragraph (d) of this section.

* * * * *

(AAA) Territory of Guam: Guam Environmental Protection Agency, Post Office Box 2999, Agana, Guam 96910.

Note: For tables listing the delegation status of agencies in Region IX, see paragraph (d) of this section.

* * * * *

(DDD) American Samoa Environmental Protection Agency, Pago Pago, American Samoa 96799.

Note: Tables listing the delegation status of agencies in Region IX, see paragraph (d) of this section.

(EEE) Commonwealth of the Northern Mariana Islands, Division of Environmental Quality, P.O. Box 1304, Saipan, MP 96950.

Note: For tables listing the delegation status of agencies in Region IX, see paragraph (d) of this section.

* * * * *

(d) The following tables list the specific Part 60 standards that have been delegated unchanged to the air pollution control agencies in Region IX. The (X) symbol is used to indicate each standard that has been delegated. The following provisions of this subpart are not delegated: §§ 60.4(b), 60.8(b), 60.9, 60.11(b), 60.11(e), 60.13(a), 60.13(d)(2), 60.13(g), 60.13(i).

(1) Arizona. The following table identifies delegations as of June 15, 2001:

Delegation Status for New Source Performance Standards for Arizona
| Subpart | Air pollution control agency: Arizona DEQ | Air pollution control agency: Maricopa County | Pima County | Pinal County
A | General Provisions | X | X | X | X
D | Fossil-Fuel Fired Steam Generators Constructed After August 17, 1971 | X | X | X | X
Da | Electric Utility Steam Generating Units Constructed After September 18, 1978 | X | X |  | X
Db | Industrial-Commercial-Institutional Steam Generating Units | X | X | X | X
Dc | Small Industrial Steam Generating Units | X | X | X | X
E | Incinerators | X | X | X | X
Ea | Municipal Waste Combustors | X | X |  | X
Eb | Portland Cement Plants | X
Ec | Hospital/Medical/Infectious Waste Incinerators for Which Construction is Commenced After June 20, 1996
F | Portland Cement Plants | X | X | X | X
G | Nitric Acid Plants | X | X | X | X
H | Sulfuric Acid Plants | X | X | X | X
I | Hot Mix Asphalt Facilities | X | X | X | X
J | Petroleum Refineries | X | X | X | X
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X |  | X
O | Sewage Treatment Plants | X | X | X | X
P | Primary Copper Smelters | X | X | X | X
Q | Primary Zinc Smelters | X | X | X | X
R | Primary Lead Smelters | X | X | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft pulp Mills | X | X | X | X
CC | Glass Manufacturing Plants | X | X | X | X
DD | Grain Elevators | X | X | X | X
EE | Surface Coating of Metal Furniture | X | X | X | X
FF | (Reserved)
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Chemicals Manufacturing Industry | X | X | X | X
WW | Beverage Can Surface Coating Industry | X | X | X | X
XX | Bulk Gasoline Terminals | X | X | X | X
AAA | New Residential Wool Heaters | X | X | X | X
BBB | Rubber Tire Manufacturing Industry | X | X | X | X
CCC | (Reserved)
DDD | Volatile Organic Compounds (VOC) Emissions from the Polymer Manufacturing Industry | X | X | X | X
EEE | (Reserved)
FFF | Flexible Vinyl and Urethane Coating and Printing | X | X | X | X
GGG | Equipment Leaks of VOC in Petroleum Refineries | X | X | X | X
HHH | Synthetic Fiber Production Facilities | X | X | X | X
III | Volatile Organic Compound (VOC) Emissions From the Synthetic Organic Chemical Manufacturing Industry (SOCMI) Air Oxidation Unit Processes | X | X | X | X
JJJ | Petroleum Dry Cleaners | X | X | X | X
KKK | Equipment Leaks of VOC From Onshore Natural Gas Processing Plants | X | X | X | X
LLL | Onshore Natural Gas Processing: SO2 Emissions | X | X |  | X
MMM | (Reserved) | X | X | X | X
NNN | Volatile Organic Compound (VOC) Emissions From Synthetic Organic Chemical Manufacturing Industry (SOCMI) Distillation Operations | X | X | X | X
OOO | Nonmetallic Mineral Processing Plants | X | X | X | X
PPP | Wool Fiberglass Insulation Manufacturing Plants | X | X | X | X
QQQ | VOC Emissions From Petroleum Refinery Wastewater Systems | X | X | X | X
RRR | Volatile Organic Compound Emissions from Synthetic Organic Chemical Manufacturing Industry (SOCMI) Reactor Processes
SSS | Magnetic Tape Coating Facilities | X | X | X | X
TTT | Industrial Surface Coating: Surface Coating of Plastic Parts for Business Machines | X | X | X | X
UUU | Calciners and Dryers in Mineral Industries | X
VVV | Polymeric Coating of Supporting Substrates Facilities | X | X | X | X
WWW | Municipal Solid Waste Landfills | X

(2) California. The following tables identify delegations for each of the local air pollution control agencies of California.

(i) Delegations for Amador County Air Pollution Control District, Antelope Valley Air Pollution Control District, Bay Area Air Quality Management District, and Butte County Air Pollution Control District are shown in the following table:

Delegation Status for New Source Performance Standards for Amador County APCD, Antelope Valley APCD, Bay Area AQMD, and Butte County AQMD
| Subpart | Air pollution control agency: Amador County APCD | Air pollution control agency: Antelope Valley APCD | Air pollution control agency: Bay Area AQMD | Air pollution control agency: Butte County APCD
A | General Provisions |  |  | X
D | Fossil-Fuel Fired Steam Generators Constructed After August 17, 1971 |  |  | X
Da | Electric Utility Steam Generating Units Constructed After September 18, 1978 |  |  | X
Db | Industrial-Commercial-Institutional Steam Generating Units |  |  | X
Dc | Small Industrial Steam Generating Units |  |  | X
E | Incinerators |  |  | X
Ea | Municipal Waste Combustors |  |  | X
Eb | Portland Cement Plants |  |  |
Ec | Hospital/Medical/Infectious Waste Incinerators for Which Construction is Commenced After June 20, 1996 |  |  |
F | Portland Cement Plants |  |  | X
G | Nitric Acid Plants |  |  | X
H | Sulfuric Acid Plants |  |  | X
I | Hot Mix Asphalt Facilities |  |  | X
J | Petroleum Refineries |  |  | X
K | Storage Vessels for Petroleum Liquids for Which Construction, Reconstruction, or Modification Commenced After June 11, 1973, and Prior to May 19, 1978 |  |  | X
Ka | Storage Vessels for Petroleum Liquids for Which Construction, Reconstruction, or Modification Commenced After May 18, 1978, and Prior to July 23, 1984 |  |  | X
Kb | Volatile Organic Liquid Storage Vessels (Including Petroleum Liquid Storage Vessels) for Which Construction, Reconstruction, or Modification Commenced After July 23, 1984 |  |  | X
L | Secondary Lead Smelters |  |  | X
M | Secondary Brass and Bronze Production Plants |  |  | X
N | Primary Emissions from Basic Oxygen Process Furnaces for Which Construction is Commenced After June 11, 1973 |  |  | X
Na | Secondary Emissions from Basic Oxygen Process Steelmaking Facilities for Which Construction is Commenced After January 20, 1983 |  |  | X
O | Sewage Treatment Plants |  |  | X
P | Primary Copper Smelters |  |  | X
Q | Primary Zinc Smelters |  |  | X
R | Primary Lead Smelters |  |  | X
S | Primary Aluminum Reduction Plants |  |  | X
T | Phosphate Fertilizer Industry: Wet Process Phosphoric Acid Plants |  |  | X
U | Phosphate Fertilizer Industry: Superphosphoric Acid Plants |  |  | X
V | Phosphate Fertilizer Industry: Diammonium Phosphate Plants |  |  | X
W | Phosphate Fertilizer Industry: Triple Superphosphate Plants |  |  | X
X | Phosphate Fertilizer Industry: Granular Triple Superphosphate Storage Facilities |  |  | X
Y | Coal Preparation Plants |  |  | X
Z | Ferroalloy Production Facilities |  |  | X
AA | Steel Plants: Electric Arc Furnaces Constructed After October 21, 1974 and On or Before August 17, 1983 |  |  | X
AAa | Steel Plants: Electric Arc Furnaces and Argon-Oxygen Decarburization Vessels Constructed After August 7, 1983 |  |  | X
BB | Kraft pulp Mills |  |  | X
CC | Glass Manufacturing Plants |  |  | X
DD | Grain Elevators |  |  | X
EE | Surface Coating of Metal Furniture |  |  | X
FF | (Reserved) |  |  |
GG | Stationary Gas Turbines |  |  | X
HH | Lime Manufacturing Plants |  |  | X
KK | Lead-Acid Battery Manufacturing Plants |  |  | X
LL | Metallic Mineral Processing Plants |  |  | X
MM | Automobile and Light Duty Trucks Surface Coating Operations |  |  | X
NN | Phosphate Rock Plants |  |  | X
PP | Ammonium Sulfate Manufacture |  |  | X
QQ | Graphic Arts Industry: Publication Rotogravure Printing |  |  | X
RR | Pressure Sensitive Tape and Label Surface Coating Operations |  |  | X
SS | Industrial Surface Coating: Large Appliances |  |  | X
TT | Metal Coil Surface Coating |  |  | X
UU | Asphalt Processing and Asphalt Roofing Manufacture |  |  | X
VV | Equipment Leaks of VOC in the Synthetic Organic Chemicals Manufacturing Industry |  |  | X
WW | Beverage Can Surface Coating Industry |  |  | X
XX | Bulk Gasoline Terminals
AAA | New Residential Wool Heaters |  |  | X
BBB | Rubber Tire Manufacturing Industry |  |  | X
CCC | (Reserved)
DDD | Volatile Organic Compounds (VOC) Emissions from the Polymer Manufacturing Industry |  |  | X
EEE | (Reserved)
FFF | Flexible Vinyl and Urethane Coating and Printing |  |  | X
GGG | Equipment Leaks of VOC in Petroleum Refineries |  |  | X
HHH | Synthetic Fiber Production Facilities |  |  | X
III | Volatile Organic Compound (VOC) Emissions From the Synthetic Organic Chemical Manufacturing Industry (SOCMI) Air Oxidation Unit Processes |  |  | X
JJJ | Petroleum Dry Cleaners |  |  | X
KKK | Equipment Leaks of VOC From Onshore Natural Gas Processing Plants |  |  | X
LLL | Onshore Natural Gas Processing: SO2 Emissions
MMM | (Reserved)
NNN | Volatile Organic Compound (VOC) Emissions From Synthetic Organic Chemical Manufacturing Industry (SOCMI) Distillation Operations |  |  | X
OOO | Nonmetallic Mineral Processing Plants |  |  | X
PPP | Wool Fiberglass Insulation Manufacturing Plants |  |  | X
QQQ | VOC Emissions From Petroleum Refinery Wastewater Systems |  |  | X
RRR | Volatile Organic Compound Emissions from Synthetic Organic Chemical Manufacturing Industry (SOCMI) Reactor Processes
SSS | Magnetic Tape Coating Facilities |  |  | X
TTT | Industrial Surface Coating: Surface Coating of Plastic Parts for Business Machines |  |  | X
UUU | Calciners and Dryers in Mineral Industries |  |  | X
VVV | Polymeric Coating of Supporting Substrates Facilities |  |  | X
WWW | Municipal Solid Waste Landfills

(ii) [Reserved]

(iii) Delegations for Glenn County Air Pollution Control District, Great Basin Unified Air Pollution Control District, Imperial County Air Pollution Control District, and Kern County Air Pollution Control District are shown in the following table:

Delegation Status for New Source Performance Standards for Glenn County APCD, Great Basin Unified APCD, Imperial County APCD, and Kern County APCD
| Subpart | Air pollution control agency: Glenn County APCD | Air pollution control agency: Great Basin Unified APCD | Air pollution control agency: Imperial County APCD | Air pollution control agency: Kern County APCD
A | General Provisions |  | X |  | X
D | Fossil-Fuel Fired Steam Generators Constructed After August 17, 1971 |  | X |  | X
Da | Electric Utility Steam Generating Units Constructed After September 18, 1978 |  | X |  | X
Db | Industrial-Commercial-Institutional Steam Generating Units |  | X |  | X
Dc | Small Industrial Steam Generating Units |  | X |  | X
E | Incinerators |  | X |  | X
Ea | Municipal Waste Combustors |  | X
Eb | Portland Cement Plants
Ec | Hospital/Medical/Infectious Waste Incinerators for Which Construction is Commenced After June 20, 1996.
F | Portland Cement Plants |  | X |  | X
G | Nitric Acid Plants |  | X |  | X
H | Sulfuric Acid Plants |  | X
I | Hot Mix Asphalt Facilities |  | X |  | X
J | Petroleum Refineries |  | X |  | X
K | Storage Vessels for Petroleum Liquids for Which Construction, Reconstruction, or Modification Commenced After June 11, 1973, and Prior to May 19, 1978 |  | X |  | X
Ka | Storage Vessels for Petroleum Liquids for Which Construction, Reconstruction, or Modification Commenced After May 18, 1978, and Prior to July 23, 1984 |  | X |  | X
Kb | Volatile Organic Liquid Storage Vessels (Including Petroleum Liquid Storage Vessels) for Which Construction, Reconstruction, or Modification Commenced After July 23, 1984 |  | X |  | X
L | Secondary Lead Smelters |  | X |  | X
M | Secondary Brass and Bronze Production Plants |  | X |  | X
N | Primary Emissions from Basic Oxygen Process Furnaces for Which Construction is Commenced After June 11, 1973 |  | X |  | X
Na | Secondary Emissions from Basic Oxygen Process Steelmaking Facilities for Which Construction is Commenced After January 20, 1983 |  | X |  | X
O | Sewage Treatment Plants |  | X |  | X
P | Primary Copper Smelters |  | X |  | X
Q | Primary Zinc Smelters |  | X |  | X
R | Primary Lead Smelters |  | X |  | X
S | Primary Aluminum Reduction Plants |  | X |  | X
T | Phosphate Fertilizer Industry: Wet Process Phosphoric Acid Plants |  | X |  | X
U | Phosphate Fertilizer Industry: Superphosphoric Acid Plants |  | X |  | X
V | Phosphate Fertilizer Industry: Diammonium Phosphate Plants |  | X |  | X
W | Phosphate Fertilizer Industry: Triple Superphosphate Plants |  | X |  | X
X | Phosphate Fertilizer Industry: Granular Triple Superphosphate Storage Facilities |  | X |  | X
Y | Coal Preparation Plants |  | X |  | X
Z | Ferroalloy Production Facilities |  | X |  | X
AA | Steel Plants: Electric Arc Furnaces Constructed After October 21, 1974 and On or Before August 17, 1983 |  | X |  | X
AAa | Steel Plants: Electric Arc Furnaces and Argon-Oxygen Decarburization Vessels Constructed After August 7, 1983 |  | X |  | X
BB | Kraft pulp Mills |  | X |  | X
CC | Glass Manufacturing Plants |  | X |  | X
DD | Grain Elevators |  | X |  | X
EE | Surface Coating of Metal Furniture |  | X |  | X
FF | (Reserved)
GG | Stationary Gas Turbines |  | X |  | X
HH | Lime Manufacturing Plants |  | X |  | X
KK | Lead-Acid Battery Manufacturing Plants |  | X |  | X
LL | Metallic Mineral Processing Plants |  | X |  | X
MM | Automobile and Light Duty Trucks Surface Coating Operations |  | X |  | X
NN | Phosphate Rock Plants |  | X |  | X
PP | Ammonium Sulfate Manufacture |  | X |  | X
QQ | Graphic Arts Industry: Publication Rotogravure Printing |  | X |  | X
RR | Pressure Sensitive Tape and Label Surface Coating Operations |  | X |  | X
SS | Industrial Surface Coating: Large Appliances |  | X |  | X
TT | Metal Coil Surface Coating |  | X |  | X
UU | Asphalt Processing and Asphalt Roofing Manufacture |  | X |  | X
VV | Equipment Leaks of VOC in the Synthetic Organic Chemicals Manufacturing Industry |  | X |  | X
WW | Beverage Can Surface Coating Industry |  | X |  | X
XX | Bulk Gasoline Terminals
AAA | New Residential Wool Heaters |  | X |  | X
BBB | Rubber Tire Manufacturing Industry |  | X |  | X
CCC | (Reserved)
DDD | Volatile Organic Compounds (VOC) Emissions from the Polymer Manufacturing Industry |  | X |  | X
EEE | (Reserved)
FFF | Flexible Vinyl and Urethane Coating and Printing |  | X |  | X
GGG | Equipment Leaks of VOC in Petroleum Refineries |  | X |  | X
HHH | Synthetic Fiber Production Facilities |  | X |  | X
III | Volatile Organic Compound (VOC) Emissions From the Synthetic Organic Chemical Manufacturing Industry (SOCMI) Air Oxidation Unit Processes |  | X |  | X
JJJ | Petroleum Dry Cleaners |  | X |  | X
KKK | Equipment Leaks of VOC From Onshore Natural Gas Processing Plants |  | X |  | X
LLL | Onshore Natural Gas Processing: SO2 Emissions |  |  |  | X
MMM | (Reserved)
NNN | Volatile Organic Compound (VOC) Emissions From Synthetic Organic Chemical Manufacturing Industry (SOCMI) Distillation Operations |  | X |  | X
OOO | Nonmetallic Mineral Processing Plants |  | X |  | X
PPP | Wool Fiberglass Insulation Manufacturing Plants |  | X |  | X
QQQ | VOC Emissions From Petroleum Refinery Wastewater Systems |  | X |  | X
RRR | Volatile Organic Compound Emissions from Synthetic Organic Chemical Manufacturing Industry (SOCMI) Reactor Processes |  |  |  | X
SSS | Magnetic Tape Coating Facilities |  | X |  | X
TTT | Industrial Surface Coating: Surface Coating of Plastic Parts for Business Machines |  | X |  | X
UUU | Calciners and Dryers in Mineral Industries |  | X |  | X
VVV | Polymeric Coating of Supporting Substrates Facilities |  | X |  | X
WWW | Municipal Solid Waste Landfills |  |  |  | X

(iv) Delegations for Lake County Air Quality Management District, Lassen County Air Pollution Control District, Mariposa County Air Pollution Control District, and Mendocino County Air Pollution Control District are shown in the following table:

Delegation Status for New Source Performance Standards for Lake County Air Quality Management District, Lassen County Air Pollution Control District, Mariposa County Air Pollution Control District, and Mendocino County Air Pollution Control District
| Subpart | Air pollution control agency: Lake County AQMD | Air pollution control agency: Lassen County APCD | Air pollution control agency: Mariposa County AQMD | Air pollution control agency: Mendocino County AQMD
A | General Provisions | X |  |  | X
D | Fossil-Fuel Fired Steam Generators Constructed After August 17, 1971 | X |  |  | X
Da | Electric Utility Steam Generating Units Constructed After September 18, 1978 | X |  |  | X
Db | Industrial-Commercial-Institutional Steam Generating Units | X |  |  |
Dc | Small Industrial Steam Generating Units | X |  |  | X
E | Incinerators | X |  |  | X
Ea | Municipal Waste Combustors | X |  |  | X
Eb | Portland Cement Plants
Ec | Hospital/Medical/Infectious Waste Incinerators for Which Construction is Commenced After June 20, 1996
F | Portland Cement Plants | X |  |  | X
G | Nitric Acid Plants | X |  |  | X
H | Sulfuric Acid Plants | X |  |  | X
I | Hot Mix Asphalt Facilities | X |  |  | X
J | Petroleum Refineries | X |  |  | X
K | Storage Vessels for Petroleum Liquids for Which Construction, Reconstruction, or Modification Commenced After June 11, 1973, and Prior to May 19, 1978 | X |  |  | X
Ka | Storage Vessels for Petroleum Liquids for Which Construction, Reconstruction, or Modification Commenced After May 18, 1978, and Prior to July 23, 1984 | X |  |  | X
Kb | Volatile Organic Liquid Storage Vessels (Including Petroleum Liquid Storage Vessels) for Which Construction, Reconstruction, or Modification Commenced After July 23, 1984 | X |  |  | X
L | Secondary Lead Smelters | X |  |  | X
M | Secondary Brass and Bronze Production Plants | X |  |  | X
N | Primary Emissions from Basic Oxygen Process Furnaces for Which Construction is Commenced After June 11, 1973 | X |  |  | X
Na | Secondary Emissions from Basic Oxygen Process Steelmaking Facilities for Which Construction is Commenced After January 20, 1983 | X |  |  | X
O | Sewage Treatment Plants | X |  |  | X
P | Primary Copper Smelters | X |  |  | X
Q | Primary Zinc Smelters | X |  |  | X
R | Primary Lead Smelters | X |  |  | X
S | Primary Aluminum Reduction Plants | X |  |  | X
T | Phosphate Fertilizer Industry: Wet Process Phosphoric Acid Plants | X |  |  | X
U | Phosphate Fertilizer Industry: Superphosphoric Acid Plants | X |  |  | X
V | Phosphate Fertilizer Industry: Diammonium Phosphate Plants | X |  |  | X
W | Phosphate Fertilizer Industry: Triple Superphosphate Plants | X
X | Phosphate Fertilizer Industry: Granular Triple Superphosphate Storage Facilities | X |  |  | X
Y | Coal Preparation Plants | X |  |  | X
Z | Ferroalloy Production Facilities | X |  |  | X
AA | Steel Plants: Electric Arc Furnaces Constructed After October 21, 1974 and On or Before August 17, 1983 | X |  |  | X
AAa | Steel Plants: Electric Arc Furnaces and Argon-Oxygen Decarburization Vessels Constructed After August 7, 1983 | X |  |  | X
BB | Kraft pulp Mills | X |  |  | X
CC | Glass Manufacturing Plants | X |  |  | X
DD | Grain Elevators | X |  |  | X
EE | Surface Coating of Metal Furniture | X |  |  | X
FF | (Reserved)
GG | Stationary Gas Turbines | X |  |  | X
HH | Lime Manufacturing Plants | X |  |  | X
KK | Lead-Acid Battery Manufacturing Plants | X |  |  | X
LL | Metallic Mineral Processing Plants | X |  |  | X
MM | Automobile and Light Duty Trucks Surface Coating Operations | X |  |  | X
NN | Phosphate Rock Plants | X |  |  | X
PP | Ammonium Sulfate Manufacture | X |  |  | X
QQ | Graphic Arts Industry: Publication Rotogravure Printing | X |  |  | X
RR | Pressure Sensitive Tape and Label Surface Coating Operations | X |  |  | X
SS | Industrial Surface Coating: Large Appliances | X |  |  | X
TT | Metal Coil Surface Coating | X |  |  | X
UU | Asphalt Processing and Asphalt Roofing Manufacture | X |  |  | X
VV | Equipment Leaks of VOC in the Synthetic Organic Chemicals Manufacturing Industry | X |  |  | X
WW | Beverage Can Surface Coating Industry | X |  |  | X
XX | Bulk Gasoline Terminals
AAA | New Residential Wool Heaters | X |  |  | X
BBB | Rubber Tire Manufacturing Industry | X |  |  | X
CCC | (Reserved)
DDD | Volatile Organic Compounds (VOC) Emissions from the Polymer Manufacturing Industry | X |  |  | X
EEE | (Reserved)
FFF | Flexible Vinyl and Urethane Coating and Printing | X |  |  | X
GGG | Equipment Leaks of VOC in Petroleum Refineries | X |  |  | X
HHH | Synthetic Fiber Production Facilities | X |  |  | X
III | Volatile Organic Compound (VOC) Emissions From the Synthetic Organic Chemical Manufacturing Industry (SOCMI) Air Oxidation Unit Processes | X |  |  | X
JJJ | Petroleum Dry Cleaners | X |  |  | X
KKK | Equipment Leaks of VOC From Onshore Natural Gas Processing Plants | X |  |  | X
LLL | Onshore Natural Gas Processing: SO2 Emissions | X |  |  | X
MMM | (Reserved)
NNN | Volatile Organic Compound (VOC) Emissions From Synthetic Organic Chemical Manufacturing Industry (SOCMI) Distillation Operations | X |  |  | X
OOO | Nonmetallic Mineral Processing Plants | X |  |  | X
PPP | Wool Fiberglass Insulation Manufacturing Plants | X |  |  | X
QQQ | VOC Emissions From Petroleum Refinery Wastewater Systems | X |  |  | X
RRR | Volatile Organic Compound Emissions from Synthetic Organic Chemical Manufacturing Industry (SOCMI) Reactor Processes | X
SSS | Magnetic Tape Coating Facilities | X |  |  | X
TTT | Industrial Surface Coating: Surface Coating of Plastic Parts for Business Machines | X |  |  | X
UUU | Calciners and Dryers in Mineral Industries | X |  |  | X
VVV | Polymeric Coating of Supporting Substrates Facilities | X |  |  | X
WWW | Municipal Solid Waste Landfills | X

(v) Delegations for Modoc County Air Pollution Control District, Mojave Desert Air Quality Management District, Monterey Bay Unified Air Pollution Control District, and North Coast Unified Air Pollution Control District are shown in the following table:

Delegation Status for New Source Performance Standards for Modoc County Air Pollution Control District, Mojave Desert Air Quality Management District, Monterey Bay Unified Air Pollution Control District, and North Coast Unified Air Pollution Control District
| Subpart | Air pollution control agency: Modoc County APCD | Air pollution control agency: Mojave Desert AQMD | Air pollution control agency: Monterey Bay Unified APCD | Air pollution control agency: North Coast Unified AQMD
A | General Provisions | X |  | X | X
D | Fossil-Fuel Fired Steam Generators Constructed After August 17, 1971 | X |  | X | X
Da | Electric Utility Steam Generating Units Constructed After September 18, 1978 | X |  | X | X
Db | Industrial-Commercial-Institutional Steam Generating Units | X |  | X | X
Dc | Small Industrial Steam Generating Units |  |  | X |
E | Incinerators | X |  | X | X
Ea | Municipal Waste Combustors
Eb | Portland Cement Plants
Ec | Hospital/Medical/Infectious Waste Incinerators for Which Construction is Commenced After June 20, 1996
F | Portland Cement Plants | X |  | X | X
G | Nitric Acid Plants | X |  | X | X
H | Sulfuric Acid Plants | X |  | X | X
I | Hot Mix Asphalt Facilities | X |  | X | X
J | Petroleum Refineries | X |  | X | X
K | Storage Vessels for Petroleum Liquids for Which Construction, Reconstruction, or Modification Commenced After June 11, 1973, and Prior to May 19, 1978 | X |  | X | X
Ka | Storage Vessels for Petroleum Liquids for Which Construction, Reconstruction, or Modification Commenced After May 18, 1978, and Prior to July 23, 1984 | X |  | X | X
Kb | Volatile Organic Liquid Storage Vessels (Including Petroleum Liquid Storage Vessels) for Which Construction, Reconstruction, or Modification Commenced After July 23, 1984 | X |  | X | X
L | Secondary Lead Smelters | X |  | X | X
M | Secondary Brass and Bronze Production Plants | X |  | X | X
N | Primary Emissions from Basic Oxygen Process Furnaces for Which Construction is Commenced After June 11, 1973 | X |  | X | X
Na | Secondary Emissions from Basic Oxygen Process Steelmaking Facilities for Which Construction is Commenced After January 20, 1983 | X |  | X | X
O | Sewage Treatment Plants | X |  | X | X
P | Primary Copper Smelters | X |  | X | X
Q | Primary Zinc Smelters | X |  | X | X
R | Primary Lead Smelters | X |  | X | X
S | Primary Aluminum Reduction Plants | X |  | X | X
T | Phosphate Fertilizer Industry: Wet Process Phosphoric Acid Plants | X |  | X | X
U | Phosphate Fertilizer Industry: Superphosphoric Acid Plants | X |  | X | X
V | Phosphate Fertilizer Industry: Diammonium Phosphate Plants | X |  | X | X
W | Phosphate Fertilizer Industry: Triple Superphosphate Plants | X |  | X | X
X | Phosphate Fertilizer Industry: Granular Triple Superphosphate Storage Facilities | X |  | X | X
Y | Coal Preparation Plants | X |  | X | X
Z | Ferroalloy Production Facilities | X |  | X | X
AA | Steel Plants: Electric Arc Furnaces Constructed After October 21, 1974 and On or Before August 17, 1983 | X |  | X | X
AAa | Steel Plants: Electric Arc Furnaces and Argon-Oxygen Decarburization Vessels Constructed After August 7, 1983 | X |  | X | X
BB | Kraft pulp Mills | X |  | X | X
CC | Glass Manufacturing Plants | X |  | X | X
DD | Grain Elevators | X |  | X | X
EE | Surface Coating of Metal Furniture | X |  | X | X
FF | (Reserved)
GG | Stationary Gas Turbines | X |  | X | X
HH | Lime Manufacturing Plants | X |  | X | X
KK | Lead-Acid Battery Manufacturing Plants | X |  | X | X
LL | Metallic Mineral Processing Plants | X |  | X | X
MM | Automobile and Light Duty Trucks Surface Coating Operations | X |  | X | X
NN | Phosphate Rock Plants | X |  | X | X
PP | Ammonium Sulfate Manufacture | X |  | X | X
QQ | Graphic Arts Industry: Publication Rotogravure Printing | X |  | X | X
RR | Pressure Sensitive Tape and Label Surface Coating Operations | X |  | X | X
SS | Industrial Surface Coating: Large Appliances | X |  | X | X
TT | Metal Coil Surface Coating | X |  | X | X
UU | Asphalt Processing and Asphalt Roofing Manufacture | X |  | X | X
VV | Equipment Leaks of VOC in the Synthetic Organic Chemicals Manufacturing Industry | X |  | X | X
WW | Beverage Can Surface Coating Industry | X |  | X | X
XX | Bulk Gasoline Terminals
AAA | New Residential Wool Heaters | X |  | X | X
BBB | Rubber Tire Manufacturing Industry | X |  | X | X
CCC | (Reserved)
DDD | Volatile Organic Compounds (VOC) Emissions from the Polymer Manufacturing Industry | X |  | X |
EEE | (Reserved)
FFF | Flexible Vinyl and Urethane Coating and Printing | X |  | X | X
GGG | Equipment Leaks of VOC in Petroleum Refineries | X |  | X | X
HHH | Synthetic Fiber Production Facilities | X |  | X | X
III | Volatile Organic Compound (VOC) Emissions From the Synthetic Organic Chemical Manufacturing Industry (SOCMI) Air Oxidation Unit Processes
JJJ | Petroleum Dry Cleaners | X |  | X | X
KKK | Equipment Leaks of VOC From Onshore Natural Gas Processing Plants | X |  | X | X
LLL | Onshore Natural Gas Processing: SO2 Emissions | X |  | X | X
MMM | (Reserved)
NNN | Volatile Organic Compound (VOC) Emissions From Synthetic Organic Chemical Manufacturing Industry (SOCMI) Distillation Operations | X |  | X |
OOO | Nonmetallic Mineral Processing Plants | X |  | X | X
PPP | Wool Fiberglass Insulation Manufacturing Plants | X |  | X | X
QQQ | VOC Emissions From Petroleum Refinery Wastewater Systems | X |  | X | X
RRR | Volatile Organic Compound Emissions from Synthetic Organic Chemical Manufacturing Industry (SOCMI) Reactor Processes
SSS | Magnetic Tape Coating Facilities | X |  | X | X
TTT | Industrial Surface Coating: Surface Coating of Plastic Parts for Business Machines | X |  | X | X
UUU | Calciners and Dryers in Mineral Industries |  |  | X |
VVV | Polymeric Coating of Supporting Substrates Facilities |  |  | X | X
WWW | Municipal Solid Waste Landfills

(vi) Delegations for Northern Sierra Air Quality Management District, Northern Sonoma County Air Pollution Control District, Placer County Air Pollution Control District, and Sacramento Metropolitan Air Quality Management District are shown in the following table:

Delegation Status for New Source Performance Standards for Northern Sierra Air Quality Management District, Northern Sonoma County Air Pollution Control District, Placer County Air Pollution Control District, and Sacramento Metropolitan Air Quality Management District
| Subpart | Air pollution control agency: Northern Sierra AQMD | Air pollution control agency: Northern Sonoma County APCD | Air pollution control agency: Placer County APCD | Air pollution control agency: Sacramento Metropolitan AQMD
A | General Provisions |  | X |  | X
D | Fossil-Fuel Fired Steam Generators Constructed After August 17, 1971 |  |  |  | X
Da | Electric Utility Steam Generating Units Constructed After September 18, 1978 |  |  |  | X
Db | Industrial-Commercial-Institutional Steam Generating Units |  |  |  | X
Dc | Small Industrial Steam Generating Units |  |  |  | X
E | Incinerators |  |  |  | X
Ea | Municipal Waste Combustors |  |  |  | X
Eb | Portland Cement Plants |  |  |  | X
Ec | Hospital/Medical/Infectious Waste Incinerators for Which Construction is Commenced After June 20, 1996 |  |  |  | X
F | Portland Cement Plants |  |  |  | X
G | Nitric Acid Plants |  |  |  | X
H | Sulfuric Acid Plants |  |  |  | X
I | Hot Mix Asphalt Facilities |  |  |  | X
J | Petroleum Refineries |  |  |  | X
K | Storage Vessels for Petroleum Liquids for Which Construction, Reconstruction, or Modification Commenced After June 11, 1973, and Prior to May 19, 1978 |  |  |  | X
Ka | Storage Vessels for Petroleum Liquids for Which Construction, Reconstruction, or Modification Commenced After May 18, 1978, and Prior to July 23, 1984 |  |  |  | X
Kb | Volatile Organic Liquid Storage Vessels (Including Petroleumn Liquid Storage Vessels) for Which Construction, Reconstruction, or Modification Commenced After July 23, 1984 |  |  |  | X
L | Secondary Lead Smelters |  |  |  | X
M | Secondary Brass and Bronze Production Plants |  |  |  | X
N | Primary Emissions from Basic Oxygen Process Furnaces for Which Construction is Commenced After June 11, 1973 |  |  |  | X
Na | Secondary Emissions from Basic Oxygen Process Steelmaking Facilities for Which Construction is Commenced After January 20, 1983
O | Sewage Treatment Plants |  |  |  | X
P | Primary Copper Smelters |  |  |  | X
Q | Primary Zinc Smelters |  |  |  | X
R | Primary Lead Smelters |  |  |  | X
S | Primary Aluminum Reduction Plants |  |  |  | X
T | Phosphate Fertilizer Industry: Wet Process Phosphoric Acid Plants |  |  |  | X
U | Phosphate Fertilizer Industry: Superphosphoric Acid Plants |  |  |  | X
V | Phosphate Fertilizer Industry: Diammonium Phosphate Plants |  |  |  | X
W | Phosphate Fertilizer Industry: Triple Superphosphate Plants |  |  |  | X
X | Phosphate Fertilizer Industry: Granular Triple Superphosphate Storage Facilities |  |  |  | X
Y | Coal Preparation Plants |  |  |  | X
Z | Ferroalloy Production Facilities |  |  |  | X
AA | Steel Plants: Electric Arc Furnaces Constructed After October 21, 1974 and On or Before August 17, 1983 |  |  |  | X
AAa | Steel Plants: Electric Arc Furnaces and Argon-Oxygen Decarburization Vessels Constructed After August 7, 1983 |  |  |  | X
BB | Kraft Pulp Mills |  |  |  | X
CC | Glass Manufacturing Plants |  |  |  | X
DD | Grain Elevators |  |  |  | X
EE | Surface Coating of Metal Furniture |  |  |  | X
FF | (Reserved)
GG | Stationary Glass Turbines |  |  |  | X
HH | Lime Manufacturing Plants |  |  |  | X
KK | Lead-Acid Battery Manufacturing Plants |  |  |  | X
LL | Metallic Mineral Processing Plants |  |  |  | X
MM | Automobile and Light Duty Trucks Surface Coating Operations |  |  |  | X
NN | Phosphate Rock Plants |  |  |  | X
PP | Ammonium Sulfate Manufacture |  |  |  | X
QQ | Graphic Arts Industry: Publication Rotogravure Printing |  |  |  | X
RR | Pressure Sensitive Tape and Label Surface Coating Operations |  |  |  | X
SS | Industrial Surface Coating: Large Appliances |  |  |  | X
TT | Metal Coil Surface Coating |  |  |  | X
UU | Asphalt Processing and Asphalt Roofing Manufacture |  |  |  | X
VV | Equipment Leaks of VOC in the Synthetic Organic Chemicals Manufacturing Industry |  |  |  | X
WW | Beverage Can Surface Coating Industry |  |  |  | X
XX | Bulk Gasoline Terminals.
AAA | New Residential Wood Heaters |  |  |  | X
BBB | Rubber Tire Manufacturing Industry |  |  |  | X
CCC | (Reserved)
DDD | Volatile Organic Compounds (VOC) Emissions from the Polymer Manufacturing Industry |  |  |  | X
EEE | (Reserved)
FFF | Flexible Vinyl and Urethane Coating and Printing |  |  |  | X
GGG | Equipment Leaks of VOC in Petroleum Refineries |  |  |  | X
HHH | Synthetic Fiber Production Facilities |  |  |  | X
III | Volatile Organic Compound (VOC) Emissions From the Synthetic Organic Chemical Manufacturing Industry (SOCMI) Air Oxidation Unit Processes |  |  |  | X
JJJ | Petroleum Dry Cleaners |  |  |  | X
KKK | Equipment Leaks of VOC From Onshore Natural Gas Processing Plants |  |  |  | X
LLL | Onshore Natural Gas Processing: SO2 Emissions |  |  |  | X
MMM | (Reserved)
NNN | Volatile Organic Compound (VOC) Emissions From Synthetic Organic Chemical Manufacturing Industry (SOCMI) Distillation Operations |  |  |  | X
OOO | Nonmetallic Mineral Processing Plants |  |  |  | X
PPP | Wood Fiberglass Insulation Manufacturing Plants |  |  |  | X
QQQ | VOC Emissions From Petroleum Refinery Wastewater Systems |  |  |  | X
RRR | Volatile Organic Compound Emissions from Synthetic Organic Chemical Manufacturing Industry (SOCMI) Reactor Processes |  |  |  | X
SSS | Magnetic Tape Coating Facilities |  |  |  | X
TTT | Industrial Surface Coating: Surface Coating of Plastic Parts for Business Machines |  |  |  | X
UUU | Calciners and Dryers in Mineral Industries |  |  |  | X
VVV | Polymeric Coating of Supporting Substrates Facilities |  |  |  | X
WWW | Municipal Solid Waste Landfills |  |  |  | X

(vii) Delegations for San Diego County Air Pollution Control District, San Joaquin Valley Unified Air Pollution Control District, San Luis Obispo County Air Pollution Control District, and Santa Barbara County Air Pollution Control District are shown in the following table:

Delegation Status for New Source Performance Standards for San Diego County Air Pollution Control District, San Joaquin Valley Unified Air Pollution Control District, San Luis Obispo County Air Pollution Control District, and Santa Barbara County Air Pollution Control District
| Subpart | Air pollution control agency: San Diego County APCD | Air pollution control agency: San Joaquin Valley APCD | Air pollution control agency: San Luis Obispo County APCD | Air pollution control agency: Santa Barbara County APCD
A | General Provisions | X | X | X | X
D | Fossil-Fuel Fired Steam Generators Constructed After August 17, 1971 |  | X | X | X
Da | Electric Utility Steam Generating Units Constructed After September 18, 1978 |  | X | X | X
Db | Industrial-Commercial-Institutional Steam Generating Units |  | X | X | X
Dc | Small Industrial Steam Generating Units | X | X |  | X
E | Incinerators |  | X | X | X
Ea | Municipal Waste Combustors |  | X | X | X
Eb | Portland Cement Plants |  |  | X |
Ec | Hospital/Medical/Infectious Waste Incinerators for Which Construction is Commenced After June 20, 1996.
F | Portland Cement Plants |  | X | X | X
G | Nitric Acid Plants |  | X | X | X
H | Sulfuric Acid Plants |  | X | X | X
I | Hot Mix Asphalt Facilities | X | X | X | X
J | Petroleum Refineries |  | X | X | X
K | Storage Vessels for Petroleum Liquids for Which Construction, Reconstruction, or Modification Commenced After June 11, 1973, and Prior to May 19, 1978 |  | X | X | X
Ka | Storage Vessels for Petroleum Liquids for Which Construction, Reconstruction, or Modification Commenced After May 18, 1978, and Prior to July 23, 1984 |  | X | X | X
Kb | Volatile Organic Liquid Storage Vessels (Including Petroleum Liquid Storage Vessels) for Which Construction, Reconstruction, or Modification Commenced After July 23, 1984 | X | X | X | X
L | Secondary Lead Smelters |  | X | X | X
M | Secondary Brass and Bronze Production Plants |  | X | X | X
N | Primary Emissions from Basic Oxygen Process Furnaces for Which Construction is Commenced After June 11, 1973 |  | X | X | X
Na | Secondary Emissions from Basic Oxygen Process Steelmaking Facilities for Which Construction is Commenced After January 20, 1983 |  | X | X | X
O | Sewage Treatment Plants | X | X | X | X
P | Primary Copper Smelters |  | X | X | X
Q | Primary Zinc Smelters |  | X | X | X
R | Primary Lead Smelters |  | X | X | X
S | Primary Aluminum Reduction Plants |  | X | X | X
T | Phosphate Fertilizer Industry: Wet Process Phosphoric Acid Plants |  | X | X | X
U | Phosphate Fertilizer Industry: Superphosphoric Acid Plants |  | X | X | X
V | Phosphate Fertilizer Industry: Diammonium Phosphate Plants |  | X | X | X
W | Phosphate Fertilizer Industry: Triple Superphosphate Plants |  | X | X | X
X | Phosphate Fertilizer Industry: Granular Triple Superphosphate Storage Facilities |  | X | X | X
Y | Coal Preparation Plants |  | X | X | X
Z | Ferroalloy Production Facilities |  | X | X | X
AA | Steel Plants: Electric Arc Furnaces Constructed After October 21, 1974 and On or Before August 17, 1983 |  | X | X | X
AAa | Steel Plants: Electric Arc Furnaces and Argon-Oxygen Decarburization Vessels Constructed After August 7, 1983 |  | X | X | X
BB | Kraft pulp Mills |  | X | X | X
CC | Glass Manufacturing Plants |  | X | X | X
DD | Grain Elevators |  | X | X | X
EE | Surface Coating of Metal Furniture |  | X | X | X
FF | (Reserved)
GG | Stationary Gas Turbines |  | X | X | X
HH | Lime Manufacturing Plants |  | X | X | X
KK | Lead-Acid Battery Manufacturing Plants |  | X | X | X
LL | Metallic Mineral Processing Plants |  | X | X | X
MM | Automobile and Light Duty Trucks Surface Coating Operations |  | X | X | X
NN | Phosphate Rock Plants |  | X | X | X
PP | Ammonium Sulfate Manufacture |  | X | X | X
QQ | Graphic Arts Industry: Publication Rotogravure Printing |  | X | X | X
RR | Pressure Sensitive Tape and Label Surface Coating Operations |  | X | X | X
SS | Industrial Surface Coating: Large Appliances |  | X | X | X
TT | Metal Coil Surface Coating |  | X | X | X
UU | Asphalt Processing and Asphalt Roofing Manufacture |  | X | X | X
VV | Equipment Leaks of VOC in the Synthetic Organic Chemicals Manufacturing Industry |  | X | X | X
WW | Beverage Can Surface Coating Industry |  | X | X | X
XX | Bulk Gasoline Terminals
AAA | New Residential Wool Heaters |  | X | X | X
BBB | Rubber Tire Manufacturing Industry |  | X | X | X
CCC | (Reserved)
DDD | Volatile Organic Compounds (VOC) Emissions from the Polymer Manufacturing Industry |  | X | X | X
EEE | (Reserved)
FFF | Flexible Vinyl and Urethane Coating and Printing |  | X | X | X
GGG | Equipment Leaks of VOC in Petroleum Refineries |  | X | X | X
HHH | Synthetic Fiber Production Facilities |  | X | X | X
III | Volatile Organic Compound (VOC) Emissions From the Synthetic Organic Chemical Manufacturing Industry (SOCMI) Air Oxidation Unit Processes |  | X | X | X
JJJ | Petroleum Dry Cleaners |  | X | X | X
KKK | Equipment Leaks of VOC From Onshore Natural Gas Processing Plants |  | X | X | X
LLL | Onshore Natural Gas Processing: SO2 Emissions |  | X | X | X
MMM | (Reserved).
NNN | Volatile Organic Compound (VOC) Emissions From Synthetic Organic Chemical Manufacturing Industry (SOCMI) Distillation Operations |  | X | X | X
OOO | Nonmetallic Mineral Processing Plants | X | X | X | X
PPP | Wool Fiberglass Insulation Manufacturing Plants |  | X | X | X
QQQ | VOC Emissions From Petroleum Refinery Wastewater Systems |  | X | X | X
RRR | Volatile Organic Compound Emissions from Synthetic Organic Chemical Manufacturing Industry (SOCMI) Reactor Processes |  | X | X | X
SSS | Magnetic Tape Coating Facilities |  | X | X | X
TTT | Industrial Surface Coating: Surface Coating of Plastic Parts for Business Machines |  | X | X | X
UUU | Calciners and Dryers in Mineral Industries | X | X | X | X
VVV | Polymeric Coating of Supporting Substrates Facilities |  | X | X | X
WWW | Municipal Solid Waste Landfills | X | X | X | X

(viii) Delegations for Shasta County Air Quality Management District, Siskiyou County Air Pollution Control District, South Coast Air Quality Management District, and Tehama County Air Pollution Control District are shown in the following table:

Delegation Status for New Source Performance Standards for Shasta County Air Quality Management District, Siskiyou County Air Pollution Control District, South Coast Air Quality Management District, and Tehama County Air Pollution Control District
| Subpart | Air pollution control agency: Shasta County AQMD | Air pollution control agency: Siskiyou County APCD | Air pollution control agency: South Coast AQMD | Air pollution control agency: Tehama County APCD
A | General Provisions | X | X | X
D | Fossil-Fuel Fired Steam Generators Constructed After August 17, 1971 |  |  | X
Da | Electric Utility Steam Generating Units Constructed After September 18, 1978 |  |  | X
Db | Industrial-Commercial-Institutional Steam Generating Units |  |  | X
Dc | Small Industrial Steam Generating Units |  |  | X
E | Incinerators |  |  | X
Ea | Municipal Waste Combustors |  |  | X
Eb | Portland Cement Plants
Ec | Hospital/Medical/Infectious Waste Incinerators for Which Construction is Commenced After June 20, 1996
F | Portland Cement Plants |  |  | X
G | Nitric Acid Plants |  |  | X
H | Sulfuric Acid Plants |  |  | X
I | Hot Mix Asphalt Facilities |  |  | X
J | Petroleum Refineries |  |  | X
K | Storage Vessels for Petroleum Liquids for Which Construction, Reconstruction, or Modification Commenced After June 11, 1973, and Prior to May 19, 1978 |  |  | X
Ka | Storage Vessels for Petroleum Liquids for Which Construction, Reconstruction, or Modification Commenced After May 18, 1978, and Prior to July 23, 1984 |  |  | X
Kb | Volatile Organic Liquid Storage Vessels (Including Petroleum Liquid Storage Vessels) for Which Construction, Reconstruction, or Modification Commenced After July 23, 1984 |  |  | X
L | Secondary Lead Smelters |  |  | X
M | Secondary Brass and Bronze Production Plants |  |  | X
N | Primary Emissions from Basic Oxygen Process Furnaces for Which Construction is Commenced After June 11, 1973 |  |  | X
Na | Secondary Emissions from Basic Oxygen Process Steelmaking Facilities for Which Construction is Commenced After January 20, 1983 |  |  | X
O | Sewage Treatment Plants |  |  | X
P | Primary Copper Smelters |  |  | X
Q | Primary Zinc Smelters |  |  | X
R | Primary Lead Smelters |  |  | X
S | Primary Aluminum Reduction Plants |  |  | X
T | Phosphate Fertilizer Industry: Wet Process Phosphoric Acid Plants |  |  | X
U | Phosphate Fertilizer Industry: Superphosphoric Acid Plants |  |  | X
V | Phosphate Fertilizer Industry: Diammonium Phosphate Plants |  |  | X
W | Phosphate Fertilizer Industry: Triple Superphosphate Plants |  |  | X
X | Phosphate Fertilizer Industry: Granular Triple Superphosphate Storage Facilities |  |  | X
Y | Coal Preparation Plants |  |  | X
Z | Ferroalloy Production Facilities |  |  | X
AA | Steel Plants: Electric Arc Furnaces Constructed After October 21, 1974 and On or Before August 17, 1983 |  |  | X
AAa | Steel Plants: Electric Arc Furnaces and Argon-Oxygen Decarburization Vessels Constructed After August 7, 1983 |  |  | X
BB | Kraft pulp Mills |  |  | X
CC | Glass Manufacturing Plants |  |  | X
DD | Grain Elevators |  |  | X
EE | Surface Coating of Metal Furniture |  |  | X
FF | (Reserved)
GG | Stationary Gas Turbines |  |  | X
HH | Lime Manufacturing Plants |  |  | X
KK | Lead-Acid Battery Manufacturing Plants |  |  | X
LL | Metallic Mineral Processing Plants |  |  | X
MM | Automobile and Light Duty Trucks Surface Coating Operations |  |  | X
NN | Phosphate Rock Plants |  |  | X
PP | Ammonium Sulfate Manufacture |  |  | X
QQ | Graphic Arts Industry: Publication Rotogravure Printing |  |  | X
RR | Pressure Sensitive Tape and Label Surface Coating Operations |  |  | X
SS | Industrial Surface Coating: Large Appliances |  |  | X
TT | Metal Coil Surface Coating |  |  | X
UU | Asphalt Processing and Asphalt Roofing Manufacture |  |  | X
VV | Equipment Leaks of VOC in the Synthetic Organic Chemicals Manufacturing Industry |  |  | X
WW | Beverage Can Surface Coating Industry |  |  | X
XX | Bulk Gasoline Terminals
AAA | New Residential Wool Heaters |  |  | X
BBB | Rubber Tire Manufacturing Industry |  |  | X
CCC | (Reserved)
DDD | Volatile Organic Compounds (VOC) Emissions from the Polymer Manufacturing Industry |  |  | X
EEE | (Reserved)
FFF | Flexible Vinyl and Urethane Coating and Printing |  |  | X
GGG | Equipment Leaks of VOC in Petroleum Refineries |  |  | X
HHH | Synthetic Fiber Production Facilities |  |  | X
III | Volatile Organic Compound (VOC) Emissions From the Synthetic Organic Chemical Manufacturing Industry (SOCMI) Air Oxidation Unit Processes |  |  | X
JJJ | Petroleum Dry Cleaners |  |  | X
KKK | Equipment Leaks of VOC From Onshore Natural Gas Processing Plants |  |  | X
LLL | Onshore Natural Gas Processing: SO2 Emissions |  |  | X
MMM | (Reserved)
NNN | Volatile Organic Compound (VOC) Emissions From Synthetic Organic Chemical Manufacturing Industry (SOCMI) Distillation Operations |  |  | X
OOO | Nonmetallic Mineral Processing Plants |  |  | X
PPP | Wool Fiberglass Insulation Manufacturing Plants |  |  | X
QQQ | VOC Emissions From Petroleum Refinery Wastewater Systems |  |  | X
RRR | Volatile Organic Compound Emissions from Synthetic Organic Chemical Manufacturing Industry (SOCMI) Reactor Processes
SSS | Magnetic Tape Coating Facilities |  |  | X
TTT | Industrial Surface Coating: Surface Coating of Plastic Parts for Business Machines |  |  | X
UUU | Calciners and Dryers in Mineral Industries |  |  | X
VVV | Polymeric Coating of Supporting Substrates Facilities |  |  | X
WWW | Municipal Solid Waste Landfills

(ix) Delegations for Tuolumne County Air Pollution Control District, Ventura County Air Pollution Control District, and Yolo-Solano Air Quality Management District are shown in the following table:

Delegation Status for New Source Performance Standards for Tuolumne County Air Pollution Control District, Ventura County Air Pollution Control District, and Yolo-Solano Air Quality Management District
| Subpart | Air pollution control agency: Tuolumne County APCD | Air pollution control agency: Ventura County APCD | Air pollution control agency: Yolo-Solano AQMD
A | General Provisions |  | X | X
D | Fossil-Fuel Fired Steam Generators Constructed After August 17, 1971 |  | X | X
Da | Electric Utility Steam Generating Units Constructed After September 18, 1978 |  | X
Db | Industrial-Commercial-Institutional Steam Generating Units |  | X | X
Dc | Small Industrial Steam Generating Units |  | X
E | Incinerators |  | X
Ea | Municipal Waste Combustors |  | X
Eb | Portland Cement Plants
Ec | Hospital/Medical/Infectious Waste Incinerators for Which Construction is Commenced After June 20, 1996
F | Portland Cement Plants |  | X
G | Nitric Acid Plants |  | X
H | Sulfuric Acid Plants |  | X
I | Hot Mix Asphalt Facilities |  | X | X
J | Petroleum Refineries |  | X | X
K | Storage Vessels for Petroleum Liquids for Which Construction, Reconstruction, or Modification Commenced After June 11, 1973, and Prior to May 19, 1978 |  | X | X
Ka | Storage Vessels for Petroleum Liquids for Which Construction, Reconstruction, or Modification Commenced After May 18, 1978, and Prior to July 23, 1984 |  | X
Kb | Volatile Organic Liquid Storage Vessels (Including Petroleum Liquid Storage Vessels) for Which Construction, Reconstruction, or Modification Commenced After July 23, 1984 |  | X
L | Secondary Lead Smelters |  | X
M | Secondary Brass and Bronze Production Plants |  | X
N | Primary Emissions from Basic Oxygen Process Furnaces for Which Construction is Commenced After June 11, 1973 |  | X
Na | Secondary Emissions from Basic Oxygen Process Steelmaking Facilities for Which Construction is Commenced After January 20, 1983 |  | X
O | Sewage Treatment Plants |  | X
P | Primary Copper Smelters |  | X
Q | Primary Zinc Smelters |  | X
R | Primary Lead Smelters |  | X
S | Primary Aluminum Reduction Plants |  | X
T | Phosphate Fertilizer Industry: Wet Process Phosphoric Acid Plants |  | X
U | Phosphate Fertilizer Industry: Superphosphoric Acid Plants |  | X
V | Phosphate Fertilizer Industry: Diammonium Phosphate Plants |  | X
W | Phosphate Fertilizer Industry: Triple Superphosphate Plants |  | X
X | Phosphate Fertilizer Industry: Granular Triple Superphosphate Storage Facilities |  | X
Y | Coal Preparation Plants |  | X
Z | Ferroalloy Production Facilities |  | X
AA | Steel Plants: Electric Arc Furnaces Constructed After October 21, 1974 and On or Before August 17, 1983 |  | X | X
AAa | Steel Plants: Electric Arc Furnaces and Argon-Oxygen Decarburization Vessels Constructed After August 7, 1983 |  | X
BB | Kraft pulp Mills |  | X
CC | Glass Manufacturing Plants |  | X
DD | Grain Elevators |  | X
EE | Surface Coating of Metal Furniture |  | X
FF | (Reserved)
GG | Stationary Gas Turbines |  | X
HH | Lime Manufacturing Plants |  | X
KK | Lead-Acid Battery Manufacturing Plants |  | X
LL | Metallic Mineral Processing Plants |  | X
MM | Automobile and Light Duty Trucks Surface Coating Operations |  | X
NN | Phosphate Rock Plants |  | X
PP | Ammonium Sulfate Manufacture |  | X
QQ | Graphic Arts Industry: Publication Rotogravure Printing |  | X
RR | Pressure Sensitive Tape and Label Surface Coating Operations |  | X
SS | Industrial Surface Coating: Large Appliances |  | X
TT | Metal Coil Surface Coating |  | X
UU | Asphalt Processing and Asphalt Roofing Manufacture |  | X
VV | Equipment Leaks of VOC in the Synthetic Organic Chemicals Manufacturing Industry |  | X
WW | Beverage Can Surface Coating Industry |  | X
XX | Bulk Gasoline Terminals
AAA | New Residential Wool Heaters |  | X
BBB | Rubber Tire Manufacturing Industry |  | X
CCC | (Reserved)
DDD | Volatile Organic Compounds (VOC) Emissions from the Polymer Manufacturing Industry |  | X
EEE | (Reserved)
FFF | Flexible Vinyl and Urethane Coating and Printing |  | X
GGG | Equipment Leaks of VOC in Petroleum Refineries |  | X
HHH | Synthetic Fiber Production Facilities |  | X
III | Volatile Organic Compound (VOC) Emissions From the Synthetic Organic Chemical Manufacturing Industry (SOCMI) Air Oxidation Unit Processes |  | X
JJJ | Petroleum Dry Cleaners |  | X
KKK | Equipment Leaks of VOC From Onshore Natural Gas Processing Plants |  | X
LLL | Onshore Natural Gas Processing: SO2 Emissions |  | X
MMM | (Reserved)
NNN | Volatile Organic Compound (VOC) Emissions From Synthetic Organic Chemical Manufacturing Industry (SOCMI) Distillation Operations |  | X
OOO | Nonmetallic Mineral Processing Plants |  | X | X
PPP | Wool Fiberglass Insulation Manufacturing Plants |  | X
QQQ | VOC Emissions From Petroleum Refinery Wastewater Systems |  | X
RRR | Volatile Organic Compound Emissions from Synthetic Organic Chemical Manufacturing Industry (SOCMI) Reactor Processes |  | X
SSS | Magnetic Tape Coating Facilities |  | X
TTT | Industrial Surface Coating: Surface Coating of Plastic Parts for Business Machines |  | X
UUU | Calciners and Dryers in Mineral Industries |  | X
VVV | Polymeric Coating of Supporting Substrates Facilities |  | X
WWW | Municipal Solid Waste Landfills |  | X | X

(3) Hawaii. The following table identifies delegations as of June 15, 2001:

Delegation Status for New Source Performance Standards for Hawaii
| Subpart | Hawaii
A | General Provisions | X
D | Fossil-Fuel Fired Steam Generators Constructed After August 17, 1971 | X
Da | Electric Utility Steam Generating Units Constructed After September 18, 1978 | X
Db | Industrial-Commercial-Institutional Steam Generating Units | X
Dc | Small Industrial Steam Generating Units | X
E | Incinerators | X
Ea | Municipal Waste Combustors | X
Eb | Portland Cement Plants | X
Ec | Hospital/Medical/Infectious Waste Incinerators for Which Construction is Commenced After June 20, 1996
F | Portland Cement Plants | X
G | Nitric Acid Plants
H | Sulfuric Acid Plants
I | Hot Mix Asphalt Facilities | X
J | Petroleum Refineries | X
K | Storage Vessels for Petroleum Liquids for Which Construction, Reconstruction, or Modification Commenced After June 11, 1973, and Prior to May 19, 1978
Ka | Storage Vessels for Petroleum Liquids for Which Construction, Reconstruction, or Modification Commenced After May 18, 1978, and Prior to July 23, 1984 | X
Kb | Volatile Organic Liquid Storage Vessels (Including Petroleum Liquid Storage Vessels) for Which Construction, Reconstruction, or Modification Commenced After July 23, 1984 | X
L | Secondary Lead Smelters
M | Secondary Brass and Bronze Production Plants
N | Primary Emissions from Basic Oxygen Process Furnaces for Which Construction is Commenced After June 11, 1973
Na | Secondary Emissions from Basic Oxygen Process Steelmaking Facilities for Which Construction is Commenced After January 20, 1983
O | Sewage Treatment Plants | X
P | Primary Copper Smelters
Q | Primary Zinc Smelters
R | Primary Lead Smelters
S | Primary Aluminum Reduction Plants
T | Phosphate Fertilizer Industry: Wet Process Phosphoric Acid Plants
U | Phosphate Fertilizer Industry: Superphosphoric Acid Plants
V | Phosphate Fertilizer Industry: Diammonium Phosphate Plants
W | Phosphate Fertilizer Industry: Triple Superphosphate Plants
X | Phosphate Fertilizer Industry: Granular Triple Superphosphate Storage Facilities
Y | Coal Preparation Plants | X
Z | Ferroalloy Production Facilities
AA | Steel Plants: Electric Arc Furnaces Constructed After October 21, 1974 and On or Before August 17, 1983 | X
AAa | Steel Plants: Electric Arc Furnaces and Argon-Oxygen Decarburization Vessels Constructed After August 7, 1983 | X
BB | Kraft pulp Mills
CC | Glass Manufacturing Plants
DD | Grain Elevators
EE | Surface Coating of Metal Furniture
FF | (Reserved)
GG | Stationary Gas Turbines | X
HH | Lime Manufacturing Plants
KK | Lead-Acid Battery Manufacturing Plants
LL | Metallic Mineral Processing Plants
MM | Automobile and Light Duty Trucks Surface Coating Operations
NN | Phosphate Rock Plants
PP | Ammonium Sulfate Manufacture
QQ | Graphic Arts Industry: Publication Rotogravure Printing
RR | Pressure Sensitive Tape and Label Surface Coating Operations
SS | Industrial Surface Coating: Large Appliances
TT | Metal Coil Surface Coating
UU | Asphalt Processing and Asphalt Roofing Manufacture
VV | Equipment Leaks of VOC in the Synthetic Organic Chemicals Manufacturing Industry | X
WW | Beverage Can Surface Coating Industry | X
XX | Bulk Gasoline Terminals | X
AAA | New Residential Wool Heaters
BBB | Rubber Tire Manufacturing Industry
CCC | (Reserved)
DDD | Volatile Organic Compounds (VOC) Emissions from the Polymer Manufacturing Industry
EEE | (Reserved)
FFF | Flexible Vinyl and Urethane Coating and Printing
GGG | Equipment Leaks of VOC in Petroleum Refineries | X
HHH | Synthetic Fiber Production Facilities
III | Volatile Organic Compound (VOC) Emissions From the Synthetic Organic Chemical Manufacturing Industry (SOCMI) Air Oxidation Unit Processes
JJJ | Petroleum Dry Cleaners | X
KKK | Equipment Leaks of VOC From Onshore Natural Gas Processing Plants
LLL | Onshore Natural Gas Processing: SO2 Emissions
MMM | (Reserved)
NNN | Volatile Organic Compound (VOC) Emissions From Synthetic Organic Chemical Manufacturing Industry (SOCMI) Distillation Operations | X
OOO | Nonmetallic Mineral Processing Plants | X
PPP | Wool Fiberglass Insulation Manufacturing Plants
QQQ | VOC Emissions From Petroleum Refinery Wastewater Systems | X
RRR | Volatile Organic Compound Emissions from Synthetic Organic Chemical Manufacturing Industry (SOCMI) Reactor Processes
SSS | Magnetic Tape Coating Facilities
TTT | Industrial Surface Coating: Surface Coating of Plastic Parts for Business Machines
UUU | Calciners and Dryers in Mineral Industries | X
VVV | Polymeric Coating of Supporting Substrates Facilities | X
WWW | Municipal Solid Waste Landfills

(4) Nevada. The following table identifies delegations as of June 15, 2001:

Delegation Status for New Source Performance Standards for Nevada
| Subpart | Air pollution control agency: Nevada DEP | Air pollution control agency: Clark County | Air pollution control agency: Washoe County
A | General Provisions | X | X | X
D | Fossil-Fuel Fired Steam Generators Constructed After August 17, 1971 | X | X | X
Da | Electric Utility Steam Generating Units Constructed After September 18, 1978 | X
Db | Industrial-Commercial-Institutional Steam Generating Units
Dc | Small Industrial Steam Generating Units
E | Incinerators | X | X | X
Ea | Municipal Waste Combustors
Eb | Portland Cement Plants
Ec | Hospital/Medical/Infectious Waste Incinerators for Which Construction is Commenced After June 20, 1996
F | Portland Cement Plants | X | X | X
G | Nitric Acid Plants | X |  | X
H | Sulfuric Acid Plants | X |  | X
I | Hot Mix Asphalt Facilities | X | X | X
J | Petroleum Refineries | X |  | X
K | Storage Vessels for Petroleum Liquids for Which Construction, Reconstruction, or Modification Commenced After June 11, 1973, and Prior to May 19, 1978 | X | X | X
Ka | Storage Vessels for Petroleum Liquids for Which Construction, Reconstruction, or Modification Commenced After May 18, 1978, and Prior to July 23, 1984 | X | X | X
Kb | Volatile Organic Liquid Storage Vessels (Including Petroleum Liquid Storage Vessels) for Which Construction, Reconstruction, or Modification Commenced After July 23, 1984 | X
L | Secondary Lead Smelters | X | X | X
M | Secondary Brass and Bronze Production Plants | X |  | X
N | Primary Emissions from Basic Oxygen Process Furnaces for Which Construction is Commenced After June 11, 1973 | X |  | X
Na | Secondary Emissions from Basic Oxygen Process Steelmaking Facilities for Which Construction is Commenced After January 20, 1983 | X
O | Sewage Treatment Plants | X | X | X
P | Primary Copper Smelters | X | X | X
Q | Primary Zinc Smelters | X | X | X
R | Primary Lead Smelters | X | X | X
S | Primary Aluminum Reduction Plants | X |  | X
T | Phosphate Fertilizer Industry: Wet Process Phosphoric Acid Plants | X |  | X
U | Phosphate Fertilizer Industry: Superphosphoric Acid Plants | X |  | X
V | Phosphate Fertilizer Industry: Diammonium Phosphate Plants | X |  | X
W | Phosphate Fertilizer Industry: Triple Superphosphate Plants | X |  | X
X | Phosphate Fertilizer Industry: Granular Triple Superphosphate Storage Facilities | X |  | X
Y | Coal Preparation Plants | X | X | X
Z | Ferroalloy Production Facilities | X |  | X
AA | Steel Plants: Electric Arc Furnaces Constructed After October 21, 1974 and On or Before August 17, 1983 | X |  | X
AAa | Steel Plants: Electric Arc Furnaces and Argon-Oxygen Decarburization Vessels Constructed After August 7, 1983 | X
BB | Kraft pulp Mills | X |  | X
CC | Glass Manufacturing Plants | X |  | X
DD | Grain Elevators | X | X | X
EE | Surface Coating of Metal Furniture | X | X | X
FF | (Reserved)
GG | Stationary Gas Turbines | X | X | X
HH | Lime Manufacturing Plants | X | X | X
KK | Lead-Acid Battery Manufacturing Plants | X | X | X
LL | Metallic Mineral Processing Plants | X | X | X
MM | Automobile and Light Duty Trucks Surface Coating Operations | X | X | X
NN | Phosphate Rock Plants | X | X | X
PP | Ammonium Sulfate Manufacture | X |  | X
QQ | Graphic Arts Industry: Publication Rotogravure Printing | X | X | X
RR | Pressure Sensitive Tape and Label Surface Coating Operations | X |  | X
SS | Industrial Surface Coating: Large Appliances | X | X | X
TT | Metal Coil Surface Coating | X | X | X
UU | Asphalt Processing and Asphalt Roofing Manufacture | X | X | X
VV | Equipment Leaks of VOC in the Synthetic Organic Chemicals Manufacturing Industry | X | X | X
WW | Beverage Can Surface Coating Industry | X |  | X
XX | Bulk Gasoline Terminals | X |  | X
AAA | New Residential Wool Heaters
BBB | Rubber Tire Manufacturing Industry
CCC | (Reserved)
DDD | Volatile Organic Compounds (VOC) Emissions from the Polymer Manufacturing Industry
EEE | (Reserved)
FFF | Flexible Vinyl and Urethane Coating and Printing | X |  | X
GGG | Equipment Leaks of VOC in Petroleum Refineries | X |  | X
HHH | Synthetic Fiber Production Facilities | X |  | X
III | Volatile Organic Compound (VOC) Emissions From the Synthetic Organic Chemical Manufacturing Industry (SOCMI) Air Oxidation Unit Processes
JJJ | Petroleum Dry Cleaners | X | X | X
KKK | Equipment Leaks of VOC From Onshore Natural Gas Processing Plants | X
LLL | Onshore Natural Gas Processing: SO2 Emissions | X
MMM | (Reserved)
NNN | Volatile Organic Compound (VOC) Emissions From Synthetic Organic Chemical Manufacturing Industry (SOCMI) Distillation Operations
OOO | Nonmetallic Mineral Processing Plants | X |  | X
PPP | Wool Fiberglass Insulation Manufacturing Plants | X |  | X
QQQ | VOC Emissions From Petroleum Refinery Wastewater Systems
RRR | Volatile Organic Compound Emissions from Synthetic Organic Chemical Manufacturing Industry (SOCMI) Reactor Processes
SSS | Magnetic Tape Coating Facilities
TTT | Industrial Surface Coating: Surface Coating of Plastic Parts for Business Machines
UUU | Calciners and Dryers in Mineral Industries
VVV | Polymeric Coating of Supporting Substrates Facilities
WWW | Municipal Solid Waste Landfills

(5) Guam. The following table identifies delegations as of June 15, 2001:

Delegation Status for New Source Performance Standards for Guam
| Subpart | Guam
A | General Provisions | X
D | Fossil-Fuel Fired Steam Generators Constructed After August 17, 1971 | X
Da | Electric Utility Steam Generating Units Constructed After September 18, 1978.
Db | Industrial-Commercial-Institutional Steam Generating Units.
Dc | Small Industrial Steam Generating Units.
E | Incinerators.
Ea | Municipal Waste Combustors.
Eb | Portland Cement Plants.
Ec | Hospital/Medical/Infectious Waste Incinerators for Which Construction is Commenced After June 20, 1996.
F | Portland Cement Plants.
G | Nitric Acid Plants.
H | Sulfuric Acid Plants.
I | Hot Mix Asphalt Facilities | X
J | Petroleum Refineries | X
K | Storage Vessels for Petroleum Liquids for Which Construction, Reconstruction, or Modification Commenced After June 11, 1973, and Prior to May 19, 1978 | X

PART 61 —[AMENDED]

1. The authority citation for part 61 continues to read as follows:

Authority: 42 U.S.C. 7401 et seq.

Subpart A—General Provisions

2. Section 61.04 is amended:

a. In paragraph (a) by revising the address for “Region IX”.

b. By revising paragraph (b)(D).

c. By revising paragraph (b)(F).

d. By revising paragraph (b)(M).

e. By revising paragraph (b)(DD).

f. By adding paragraph (b)(AAA).

g. By adding paragraph (b)(DDD).

h. By adding paragraph (b)(EEE).

i. By adding paragraph (c)(9).

The revisions and additions read as follows:

§ 61.04 Address.

(a) * * *

Region IX (American Samoa, Arizona, California, Guam, Hawaii, Nevada), Director, Air Division, U.S. Environmental Protection Agency, 75 Hawthorne Street, San Francisco, CA 94105.

* * * * *

(b) * * *

(D) Arizona:

Arizona Department of Environmental Quality, Office of Air Quality, P.O. Box 600, Phoenix, AZ 85001-0600

Maricopa County Air Pollution Control, 2406 S. 24th Street, Suite E-214, Phoenix, AZ 85034

Pima County Department of Environmental Quality, 130 West Congress Street, 3rd Floor, Tucson, AZ 85701-1317

Pinal County Air Quality Control District, Building F, 31 North Pinal Street, Florence, AZ 85232

Note: For tables listing the delegation status of agencies in Region IX, see paragraph (c)(9) of this section.

* * * * *

(F) California:

Amador County Air Pollution Control District, 500 Argonaut Lane, Jackson, CA 95642

Antelope Valley Air Pollution Control District, 43301 Division Street, Suite 206, P.O. Box 4409, Lancaster, CA 93539-4409

Bay Area Air Quality Management District, 939 Ellis Street, San Francisco, CA 94l09

Butte County Air Pollution Control District, 2525 Dominic Drive, Suite J, Chico, CA 95928-7184

Calaveras County Air Pollution Control District, 891 Mountain Ranch Rd., San Andreas, CA 95249

Colusa County Air Pollution Control District, 100 Sunrise Blvd., Suite F, Colusa, CA 95932-3246

El Dorado County Air Pollution Control District, 2850 Fairlane Court, Bldg. C, Placerville, CA 95667-4100

Feather River Air Quality Management District, 938 14th Street, Marysville, CA 95901-4149

Glenn County Air Pollution Control District, 720 N. Colusa Street, P.O. Box 351, Willows, CA 95988-0351

Great Basin Unified Air Pollution Control District, 157 Short Street, Suite 6, Bishop, CA 93514-3537

Imperial County Air Pollution Control District, 150 South Ninth Street, El Centro, CA 92243-2801

Kern County Air Pollution Control District (Southeast Desert), 2700 M. Street, Suite 302, Bakersfield, CA 93301-2370

Lake County Air Quality Management District, 885 Lakeport Blvd., Lakeport, CA 95453-5405

Lassen County Air Pollution Control District, 175 Russell Avenue, Susanville, CA 96130-4215

Mariposa County Air Pollution Control District, P.O. Box 5, Mariposa, CA 95338

Mendocino County Air Pollution Control District, 306 E. Gobbi Street, Ukiah, CA 95482-5511

Modoc County Air Pollution Control District, 202 W. 4th Street, Alturas, CA 96101-3915

Mojave Desert Air Quality Management District, 14306 Part Avenue, Victorville, CA 92392-2310

Monterey Bay Unified Air Pollution Control District, 24580 Silver Cloud Ct., Monterey, CA 93940-6536

North Coast Unified Air Pollution Control District, 2300 Myrtle Avenue, Eureka, CA 95501-3327

Northern Sierra Air Quality Management District, 200 Litton Drive, P.O. Box 2509, Grass Valley, CA 95945-2509

Northern Sonoma County Air Pollution Control District, 150 Matheson Street, Healdsburg, CA 95448-4908

Placer County Air Pollution Control District, DeWitt Center, 11464 “B” Avenue, Auburn, CA 95603-2603

Sacramento Metropolitan Air Quality Management District, 777 12th Street, Third Floor, Sacramento, CA 95814-1908

San Diego County Air Pollution Control District, 9150 Chesapeake Drive, San Diego, CA 92123-1096

San Joaquin Valley Unified Air Pollution Control District, 1999 Tuolumne Street, 1990 E. Gettysburg, Fresno, CA 93726

San Luis Obispo County Air Pollution Control District, 3433 Roberto Court, San Luis Obispo, CA 93401-7126

Santa Barbara County Air Pollution Control District, 26 Castilian, Drive, B-23, Goleta, CA 93117-3027

Shasta County Air Quality Management District, 1855 Placer Street, Suite 101, Redding, CA 96001-1759

Siskiyou County Air Pollution Control District, 525 So. Foothill Drive, Yreka, CA 96097-3036

South Coast Air Quality Management District, 21865 E. Copley Drive, Diamond Bar, CA 91765-4182

Tehama County Air Pollution Control District, P.O. Box 38 (1750 Walnut Street), Red Bluff, CA 96080-0038

Tuolumne County Air Pollution Control District, 2 South Green Street, Sonora, CA 95370-4618

Ventura County Air Pollution Control District, 669 County Square Drive, Ventura, CA 93003-5417

Yolo-Solano Air Quality Management District, 1947 Galileo Ct., Suite 103, Davis, CA 95616-4882

Note: For tables listing the delegation status of agencies in Region IX, see paragraph (c)(9) of this section.

* * * * *

(M) Hawaii:

Hawaii State Agency, Clean Air Branch, 919 Ala Moana Blvd., 3rd Floor, Post Office Box 3378, Honolulu HI, 96814

Note: For tables listing the delegation status of agencies in Region IX, see paragraph (c)(9) of this section.

* * * * *

(DD) Nevada:

Nevada State Agency, Air Pollution Control, Bureau of Air Quality/Division of Environmental Protection, 333 West Nye Lane, Carson City, NV 89710

Clark County Department of Air Quality Management, 500 S. Grand Central Parkway, First floor, Las Vegas, NV 89155-1776

Washoe County Air Pollution Control, Washoe County District Air Quality Management, P.O. Box 11130, 1001 E. Ninth Street, Reno, NV 89520

Note: For tables listing the delegation status of agencies in Region IX, see paragraph (c)(9) of this section.

* * * * *

(AAA) Territory of Guam: Guam Environmental Protection Agency, Post Office Box 2999, Agana, Guam 96910.

Note: For tables listing the delegation status of agencies in Region IX, see paragraph (c)(9) of this section.

* * * * *

(DDD) American Samoa Environmental Protection Agency, Pago Pago, American Samoa 96799.

Note: For tables listing the delegation status of agencies in Region IX, see paragraph (d) of this section.

(EEE) Commonwealth of the Northern Mariana Islands, Division of Environmental Quality, P.O. Box 1304, Saipan, MP 96950.

Note: For tables listing the delegation status of agencies in Region IX, see paragraph (d) of this section.

* * * * *

(c) * * *

(9) The following tables list the specific Part 61 standards that have been delegated unchanged to the air pollution control agencies in Region IX. The (X) symbol is used to indicate each standard that has been delegated. The following provisions of this subpart are not delegated: §§ 61.04(b), 61.04(c), 61.05(c), 61.11, 61.12(d), 61.13(h)(1)(ii), 61.14(d), 61.14(g)(1)(ii), and 61.16.

(i) Arizona. The following table identifies delegations as of June 15, 2001:

Delegation Status for Part 61 Standards for Arizona
| Subpart | Air pollution control agency: Arizona DEO | Air pollution control agency: Maricopa County | Air pollution control agency: Pima County | Air pollution control agency: Pinal County
A | General Provisions | X | X | X | X
B | Radon Emissions From Underground Uranium.
C | Beryllium | X | X | X | X
D | Beryllium Rocket Motor Firing | X | X | X | X
E | Mercury | X | X | X | X
F | Vinyl Chloride | X | X | X | X
G | (Reserved).
H | Emissions of Radionuclides Other Than Radon From Department of Energy Facilities.
I | Radionuclide Emissions From Federal Facilities Other Than Nuclear Regulatory Commission Licensees and Not Covered by Subpart H.
J | Equipment Leaks (Fugitive Emission Sources) of Benzene | X | X | X | X
K | Radionuclide Emissions From Elemental Phosphorus Plants
L | Benzene Emissions from Coke By-Product Recovery Plants | X | X | X | X
M | Asbestos | X | X | X | X
N | Inorganic Arsenic Emissions From Glass Manufacturing Plants | X | X |  | X
O | Inorganic Arsenic Emissions From Primary Copper Smelters | X | X |  | X
P | Inorganic Arsenic Emissions From Arsenic Trioxide and Metallic Arsenic Production Facilities | X | X
Q | Radon Emissions From Department of Energy Facilities.
R | Radon Emissions From Phosphogypsum Stacks.
S | (Reserved).
T | Radon Emissions From the Disposal of Uranium Mill Tailings.
U | (Reserved).
V | Equipment Leaks (Fugitive Emission Sources) | X | X | X | X
W | Radon Emissions From Operating Mill Tailings
X | (Reserved).
Y | Benzene Emissions From Benzene Storage Vessels | X | X | X | X
Z-AA | (Reserved).
BB | Benzene Emissions From Benzene Transfer Operations | X | X | X | X
CC-EE | (Reserved).
FF | Benzene Waste Operations | X | X | X | X

(ii) California. The following tables identify delegations for each of the local air pollution control agencies of California.

(A) Delegations for Amador County Air Pollution Control District, Antelope Valley Air Pollution Control District, Bay Area Air Quality Management District, and Butte County Air Pollution Control District are shown in the following table:

Delegation Status for Part 61 Standards for Amador County APCD, Antelope Valley APCD, Bay Area AQMD, and Butte County AQMD
| Subpart | Air pollution control agency: Amador County APCD | Air pollution control agency: Antelope Valley APCD | Air pollution control agency: Bay Area AQMD | Air pollution control agency: Butte County AQMD
A | General Provisions.
B | Radon Emissions From Underground Uranium.
C | Beryllium.
D | Beryllium Rocket Motor Firing.
E | Mercury.
F | Vinyl Chloride.
G | (Reserved).
H | Emissions of Radionuclides Other Than Radon From Department of Energy Facilities.
I | Radionuclide Emissions From Federal Facilities Other Than Nuclear Regulatory Commission Licensees and Not Covered by Subpart H.
J | Equipment Leaks (Fugitive Emission Sources) of Benzene.
K | Radionuclide Emissions From Elemental Phosphorus Plants.
L | Benzene Emissions from Coke By-Product Recovery Plants |  |  | X
M | Asbestos |  |  | X
N | Inorganic Arsenic Emissions From Glass Manufacturing Plants.
O | Inorganic Arsenic Emissions From Primary Copper Smelters.
P | Inorganic Arsenic Emissions From Arsenic Trioxide and Metallic Arsenic Production Facilities.
Q | Radon Emissions From Department of Energy Facilities.
R | Radon Emissions From Phosphogypsum Stacks.
S | (Reserved).
T | Radon Emissions From the Disposal of Uranium Mill Tailings.
U | (Reserved).
V | Equipment Leaks (Fugitive Emission Sources).
W | Radon Emissions From Operating Mill Tailings.
X | (Reserved).
Y | Benzene Emissions From Benzene Storage Vessels |  |  | X
Z-AA | (Reserved).
BB | Benzene Emissions From Benzene Transfer Operations. |  |  | X
CC-EE | (Reserved).
FF | Benzene Waste Operations |  |  | X

(B) [Reserved]

(C) Delegations for Glenn County Air Pollution Control District, Great Basin Unified Air Pollution Control District, Imperial County Air Pollution Control District, and Kern County Air Pollution Control District are shown in the following table:

Delegation Status for New Source Performance Standards for Glenn County APCD, Great Basin Unified APCD, Imperial County APCD, and Kern County APCD
| Subpart | Air pollution control agency: Glenn County APCD | Air pollution control agency: Great Basin Unified APCD | Air pollution control agency: Imperial County APCD | Air pollution control agency: Kern County APCD
A | General Provisions |  |  |  | X
B | Radon Emissions From Underground Uranium
C | Beryllium |  |  |  | X
D | Beryllium Rocket Motor Firing |  |  |  | X
E | Mercury |  |  |  | X
F | Vinyl Chloride |  |  |  | X
G | (Reserved).
H | Emissions of Radionuclides Other Than Radon From Department of Energy Facilities.
I | Radionuclide Emissions From Federal Facilities Other Than Nuclear Regulatory Commission Licensees and Not Covered by Subpart H
J | Equipment Leaks (Fugitive Emission Sources) of Benzene |  |  |  | X
K | Radionuclide Emissions From Elemental Phosphorus Plants.
L | Benzene Emissions From Coke By-Product Recovery Plants. |  |  |  | X
M | Asbestos |  |  |  | X
N | Inorganic Arsenic Emissions From Glass Manufacturing Plants |  |  |  | X
O | Inorganic Arsenic Emissions From Primary Copper Smelters |  |  |  | X
P | Inorganic Arsenic Emissions From Arsenic Trioxide and Metallic Arsenic Production Facilities |  |  |  | X
Q | Radon Emissions From Department of Energy Facilities.
R | Radon Emissions From Phosphogypsum Stacks.
S | (Reserved)
T | Radon Emissions From the Disposal of Uranium Mill Tailings.
U | (Reserved).
V | Equipment Leaks (Fugitive Emission Sources) |  |  |  | X
W | Radon Emissions From Operating Mill Tailings.
X | (Reserved).
Y | Benzene Emissions From Benzene Storage Vessels |  |  |  | X
Z-AA | (Reserved).
BB | Benzene Emissions From Benzene Transfer Operations |  |  |  | X
CC-EE | (Reserved).
FF | Benzene Waste Operations |  |  |  | X

(D) [Reserved]

(E) Delegations for Modoc County Air Pollution Control District, Mojave Desert Air Quality Management District, Monterey Bay Unified Air Pollution Control District, and North Coast Unified Air Pollution Control District are shown in the following table:

Delegation Status for Part 61 Standards for Modoc County Air Pollution Control District, Mojave Desert Air Quality Management District, Monterey Bay Unified Air Pollution Control District, and North Coast Unified Air Pollution Control District
| Subpart | Air pollution control agency: Modoc County APCD | Air pollution control agency: Mojave Desert AQMD | Air pollution control agency: Monterey Bay Unified APCD | Air pollution control agency: North Coast Unified AQMD
A | General Provisions | X |  | X | X
B | Radon Emissions From Underground Uranium.
C | Beryllium | X |  | X | X
D | Beryllium Rocket Motor Firing | X |  | X | X
E | Mercury | X |  | X | X
F | Vinyl Chloride | X | X | X
G | (Reserved)
H | Emissions of Radionuclides Other Than Radon From Department of Energy Facilities
I | Radionuclide Emissions From Federal Facilities Other Than Nuclear Rugulatory Commission Licensees and Not Covered by Subpart H
J | Equipment Leaks (Fugitive Emission Sources) of Benzene | X |  | X | X
K | Radionuclide Emissions From Elemental Phosphorus Plants.
L | Benzene Emissions From Coke By-Product Recovery Plants |  |  | X | X
M | Asbestos | X |  | X | X
N | Inorganic Arsenic Emissions From Glass Manufacturing Plants |  |  | X
O | Inorganic Arsenic Emissions From Primary Copper Smelters | X |  | X
P | Inorganic Arsenic Emissions From Arsenic Trioxide and Metallic Arsenic Production Facilities | X |  | X
Q | Radon Emissions From Department of Energy Facilities.
R | Radon Emissions From Phosphogypsum Stacks.
S | (Reserved).
T | Radon Emissions From the Disposal of Uranium Mill Tailings.
U | (Reserved).
V | Equipment Leaks (Fugitive Emission Sources) | X |  | X | X
W | Radon Emissions From Operating Mill Tailings.
X | (Reserved).
Y | Benzene Emissions From Benzene Storage Vessels |  |  | X | X
Z-AA | (Reserved).
BB | Benzene Emissions From Benzene Transfer Operations. |  |  | X
CC-EE | (Reserved).
FF | Benzene Waste Operations |  |  | X

(F) Delegations for Northern Sierra Air Quality Management District, Northern Sonoma County Air Pollution Control District, Placer County Air Pollution Control District, and Sacramento Metropolitan Air Quality Management District are shown in the following table:

Delegation Status for Part 61 Standards for Northern Sierra Air Quality Management District, Northern Sonoma County Air Pollution Control District, Placer County Air Pollution Control District, and Sacramento Metropolitan Air Quality Management District
| Subpart | Air pollution control agency: Northern Sierra AQMD | Air pollution control agency: Northern Sonoma County APCD | Air pollution control agency: Placer County APCD | Air pollution control agency: Sacramento Metro AQMD
A | General Provisions.
B | Radon Emissions From Underground Uranium.
C | Beryllium.
D | Beryllium Rocket Motor Firing.
E | Mercury.
F | Vinyl Chloride.
G | (Reserved).
H | Emissions of Radionuclides Other Than Radon From Department of Energy Facilities.
I | Radionuclide Emissions From Federal Facilities Other Than Nuclear Regulatory Commission Licensees and Not Covered by Subpart H.
J | Equipment Leaks (Fugitive Emission Sources) of Benzene.
K | Radionuclide Emissions From Elemental Phosphorus Plants.
L | Benzene Emissions from Coke By-Product Recovery Plants.
M | Asbestos |
N | Inorganic Arsenic Emissions From Glass Manufacturing Plants.
O | Inorganic Arsenic Emissions From Primary Copper Smelters.
P | Inorganic Arsenic Emissions From Arsenic Trioxide and Metallic Arsenic Production Facilities.
Q | Radon Emissions From Department of Energy Facilities.
R | Radon Emissions From Phosphogypsum Stacks.
S | (Reserved).
T | Radon Emissions From the Disposal of Uranium Mill Tailings.
U | (Reserved).
V | Equipment Leaks (Fugitive Emission Sources).
W | Radon Emissions From Operating Mill Tailings.
X | (Reserved).
Y | Benzene Emissions From Benzene Storage Vessels.
Z-AA | (Reserved).
BB | Benzene Emissions From Benzene Transfer Operations.
CC-EE | (Reserved).
FF | Benzene Waste Operations.

(G) Delegations for San Diego County Air Pollution Control District, San Joaquin Valley Unified Air Pollution Control District, San Luis Obispo County Air Pollution Control District, and Santa Barbara County Air Pollution Control District are shown in the following table:

Delegation Status for New Source Performance Standards for San Diego County Air Pollution Control District, San Joaquin Valley Unified Air Pollution Control District, San Luis Obispo County Air Pollution Control District, and Santa Barbara County Air Pollution Control District
| Subpart | Air pollution control agency: San Diego County APCD | Air pollution control agency: San Joaquin Valley APCD | Air pollution control agency: San Luis Obispo County APCD | Air pollution control agency: Santa Barbara County APCD
A | General Provisions | X | X | X | X
B | Radon Emissions From Underground Uranium.
C | Beryllium |  | X | X | X
D | Beryllium Rocket Motor Firing |  | X | X | X
E | Mercury | X | X | X | X
F | Vinyl Chloride |  | X | X | X
G | (Reserved).
H | Emissions of Radionuclides Other Than Radon From Department of Energy Facilities.
I | Radionuclide Emissions From Federal Facilities Other Than Nuclear Regulatory Commission Licensees and Not Covered by Subpart H
J | Equipment Leaks (Fugitive Emission Sources) of Benzene |  | X | X | X
K | Radionuclide Emissions From Elemental Phosphorus Plants.
L | Benzene Emissions from Coke By-Product Recovery Plants. |  |  | X | X
M | Asbestos |  | X | X | X
N | Inorganic Arsenic Emissions From Glass Manufacturing Plants |  | X | X | X
O | Inorganic Arsenic Emissions From Primary Copper Smelters |  | X | X | X
P | Inorganic Arsenic Emissions From Arsenic Trioxide and Metallic Arsenic Production Facilities |  | X | X | X
Q | Radon Emissions From Department of Energy Facilities.
R | Radon Emissions From Phosphogypsum Stacks.
S | (Reserved).
T | Radon Emissions From the Disposal of Uranium Mill Tailings.
U | (Reserved).
V | Equipment Leaks (Fugitive Emission Sources) |  | X | X | X
W | Radon Emissions From Operating Mill Tailings.
X | (Reserved).
Y | Benzene Emissions From Benzene Storage Vessels |  |  | X | X
Z-AA | (Reserved).
BB | Benzene Emissions From Benzene Transfer Operations |  |  | X | X
CC-EE | (Reserved).
FF | Benzene Waste Operations |  | X | X | X

(H) Delegations for Shasta County Air Quality Management District, Siskiyou County Air Pollution Control District, South Coast Air Quality Management District, and Tehama County Air Pollution Control District are shown in the following table:

Delegation Status for New Source Performance Standards for Shasta County Air Quality Management District, Siskiyou County Air Pollution Control District, South Coast Air Quality Management District, and Tehama County Air Pollution Control District
| Subpart | Air pollution control agency: Shasta County AQMD | Air pollution control agency: Siskiyou County APCD | Air pollution control agency: South Coast AQMD | Air pollution control agency: Tehama County APCD
A | General Provisions |  |  | X
B | Radon Emissions From Underground Uranium.
C | Beryllium |  |  | X
D | Beryllium Rocket Motor Firing |  |  | X
E | Mercury |  |  | X
F | Vinyl Chloride |  |  | X
G | (Reserved).
H | Emissions of Radionuclides Other Than Radon From Department of Energy Facilities
I | Radionuclide Emissions From Federal Facilities Other Than Nuclear Regulatory Commission Licensees and Not Covered by Subpart H
J | Equipment Leaks (Fugitive Emission Sources) of Benzene |  |  | X
K | Radionuclide Emissions From Elemental Phosphorus Plants.
L | Benzene Emissions from Coke By-Product Recovery Plants |  |  | X
M | Asbestos |  |  | X
N | Inorganic Arsenic Emissions From Glass Manufacturing Plants |  |  | X
O | Inorganic Arsenic Emissions From Primary Copper Smelters |  |  | X
P | Inorganic Arsenic Emissions From Arsenic Trioxide and Metallic Arsenic Production Facilities |  |  | X
Q | Radon Emissions From Department of Energy Facilities.
R | Radon Emissions From Phosphogypsum Stacks.
S | (Reserved).
T | Radon Emissions From the Disposal of Uranium Mill Tailings.
U | (Reserved).
V | Equipment Leaks (Fugitive Emission Sources) |  |  | X
W | Radon Emissions From Operating Mill Tailings.
X | (Reserved).
Y | Benzene Emissions From Benzene Storage Vessels |  |  | X
Z-AA | (Reserved).
BB | Benzene Emissions From Benzene Transfer Operations |  |  | X
CC-EE | (Reserved).
FF | Benzene Waste Operations |  |  | X

(I) Delegations for Tuolumne County Air Pollution Control District, Ventura County Air Pollution Control District, and Yolo-Solano Air Quality Management District are shown in the following table:

Delegation Status for New Source Performance Standards for Tuolumne County Air Pollution Control District, Ventura County Air Pollution Control District, and Yolo-Solano Air Quality Management District
| Subpart | Air pollution control agency: Tuolumne County APCD | Air pollution control agency: Ventura County APCD | Air pollution control agency: Yolo-Solano AQMD
A | General Provisions |  | X
B | Radon Emissions From Underground Uranium.
C | Beryllium |  | X
D | Beryllium Rocket Motor Firing |  | X
E | Mercury |  | X
F | Vinyl Chloride |  | X
G | (Reserved).
H | Emissions of Radionuclides Other Than Radon From Department of Energy Facilities
I | Radionuclide Emissions From Federal Facilities Other Than Nuclear Regulatory Commission Licensees and Not Covered by Subpart H.
J | Equipment Leaks (Fugitive Emission Sources) of Benzene |  | X
K | Radionuclide Emissions From Elemental Phosphorus Plants.
L | Benzene Emissions from Coke By-Product Recovery Plants |  | X
M | Asbestos |  | X
N | Inorganic Arsenic Emissions From Glass Manufacturing Plants |  | X
O | Inorganic Arsenic Emissions From Primary Copper Smelters |  | X
P | Inorganic Arsenic Emissions From Arsenic Trioxide and Metallic Arsenic Production Facilities |  | X
Q | Radon Emissions From Department of Energy Facilities.
R | Radon Emissions From Phosphogypsum Stacks.
S | (Reserved).
T | Radon Emissions From the Disposal of Uranium Mill Tailings.
U | (Reserved).
V | Equipment Leaks (Fugitive Emission Sources) |  | X
W | Radon Emissions From Operating Mill Tailings.
X | (Reserved).
Y | Benzene Emissions From Benzene Storage Vessels. |  | X
Z-AA | (Reserved).
BB | Benzene Emissions From Benzene Transfer Operations. |  | X
CC-EE | (Reserved).
FF | Benzene Waste Operations. |  | X

(iii) Hawaii. The following table identifies delegations as of June 15, 2001:

Delegation Status for New Source Performance Standards for Hawaii
| Subpart | Hawaii
A | General Provisions | X
B | Radon Emissions From Underground Uranium.
C | Beryllium.
D | Beryllium Rocket Motor Firing.
E | Mercury | X
F | Vinyl Chloride.
G | (Reserved).
H | Emissions of Radionuclides Other Than Radon From Department of Energy Facilities.
I | Radionuclide Emissions From Federal Facilities Other Than Nuclear Regulatory Commission Licensees and Not Covered by Subpart H.
J | Equipment Leaks (Fugitive Emission Sources) of Benzene | X
K | Radionuclide Emissions From Elemental Phosphorus Plants.
L | Benzene Emissions from Coke By-Product Recovery Plants.
M | Asbestos.
N | Inorganic Arsenic Emissions From Glass Manufacturing Plants.
O | Inorganic Arsenic Emissions From Primary Copper Smelters.
P | Inorganic Arsenic Emissions From Arsenic Trioxide and Metallic Arsenic Production Facilities.
Q | Radon Emissions From Department of Energy Facilities.
R | Radon Emissions From Phosphogypsum Stacks.
S | (Reserved).
T | Radon Emissions From the Disposal of Uranium Mill Tailings.
U | (Reserved).
V | Equipment Leaks (Fugitive Emission Sources) | X
W | Radon Emissions From Operating Mill Tailings.
X | (Reserved).
Y | Benzene Emissions From Benzene Storage Vessels.
Z-AA | (Reserved).
BB | Benzene Emissions From Benzene Transfer Operations | X
CC-EE | (Reserved).
FF | Benzene Waste Operations | X

* * * * *

[FR Doc. 02-702 Filed 1-11-02; 8:45 am]

BILLING CODE 6560-50-P